DEPARTMENT OF DEFENSE

Office of the Secretary

Science and Technology Reinvention Laboratory Personnel Management Demonstration Project, Department of the Air Force, Air Force Research Laboratory (AFRL)

AGENCY: Office of the Deputy Under Secretary of Defense (Civilian Personnel Policy), (DUSD (CPP)), Department of Defense (DoD).

ACTION: Notice.

SUMMARY: Section 342(b) of the National Defense Authorization Act (NDAA) for Fiscal Year (FY) 1995, as amended (title 10, U.S.C. 2358 note) by section 1109 of NDAA for FY 2000 and section 1114 of NDAA for FY 2001, authorizes the Secretary of Defense to conduct personnel demonstration projects at DoD laboratories designated as STRLs. The above-cited legislation authorizes DoD to conduct demonstration projects to determine whether a specified change in personnel management policies or procedures would result in improved Federal personnel management. Section 1107 of Public Law 110-181, as amended by section 1109 of Public Law 110-417 requires the Secretary of Defense to execute a process and plan to employ the personnel management demonstration project authorities granted to the Office of Personnel Management under section 4703, title 5, U.S.C., at the STRLs enumerated in section 9902(c)(2) of title 5, U.S.C., as redesignated in Public Law 111-84, section 1105, and 73 FR 73248, to enhance the performance of these laboratories. AFRL is listed as one of the designated STRLs.

This notice announces the approval of an amendment to modify existing demonstration project initiatives, to adopt flexibilities from other Science and Technology Reinvention Laboratories (STRLs) enumerated in section 9902(c)(2) of title 5, United States Code (U.S.C.), as redesignated in Public Law 111-84, section 1105, and to expand coverage of the AFRL Personnel Demonstration Project to AFRL employees in Business Management and Professional, Technician, and Mission Support occupations.

DATES: The adoption of the listed STRL demonstration project flexibilities and expansion of coverage of the personnel management demonstration project to the remaining eligible AFRL employees may be implemented beginning on the date of publication of this notice in the Federal Register. Implementation of the flexibilities will be through AFRL implementing issuances and notices to appropriate stakeholders.

FOR FURTHER INFORMATION CONTACT:

AFRL: Ms. Michelle Williams, AFRL/DPL, 1864 4th Street, Wright-Patterson AFB, Ohio 45433-7130.

DoD: Ms. Betty A. Duffield, CPMS-PSSC, Suite B-200, 1400 Key Boulevard, Arlington, VA 22209-5144.

SUPPLEMENTARY INFORMATION:

1. Background

The STRL demonstration projects are “generally similar in nature” to the Navy's China Lake Demonstration Project. The terminology “generally similar in nature” does not imply an emulation of various features, but rather “that the effectiveness of Federal laboratories can be enhanced by allowing greater managerial control over personnel functions,” * * * which * * * “can help managers to operate with more authority, responsibility, and skill to increase work force and organizational effectiveness and efficiency.” ¹

¹ Federal Register, Vol. 45, No. 77, Friday, April 18, 1980, Proposed Demonstration Project: An Integrated Approach to Pay, Performance Appraisal, and Position Classification for More Effective Operation of Government Organizations.

In August 1994, a special action “Tiger Team” was formed by the Director of Science and Technology for Air Force Materiel Command in response to the proposed DoD legislation allowing reinvention laboratories to conduct personnel demonstration projects. The team was chartered to take full opportunity of this legislation and develop solutions that would alleviate or resolve many of the prevalent and well-documented Laboratory personnel issues. The team composition included managers from the original four Air Force Laboratories (which merged and became AFRL in August 1997), retired and current Laboratory directors, and subject matter experts from civilian personnel and manpower. This team developed 27 initiatives which together represented sweeping changes in the entire spectrum of human resource management for the Laboratory. Several initiatives were designed to assist the Laboratory in hiring and placing highly-qualified Scientist and Engineer (S&E) candidates to fulfill mission requirements. Others focused on developing, motivating, and equitably compensating employees based on their contribution to the mission. Initiatives to effectively manage workforce turnover and maintain organizational excellence were also developed. These 27 initiatives were endorsed and accepted in total by the four Laboratory Commanders.

After the authorizing legislation passed, a Demonstration Project Office with four employees was established in September 1994. Under the guidance of the Air Force Materiel Command Director of Science and Technology, the Project Office was charged with further developing and implementing the demonstration concept. Initially, the Project Office solicited volunteers from across the then four Laboratories and the servicing civilian personnel offices to staff six integrated product teams. Sixty civilian managers and employees from most of the four Laboratories' geographic locations and appropriate base level personnel offices worked for nine months to develop the detailed concept and implementation for each initiative.

After a thorough study, the original 27 initiatives were reduced to 20. Seven of these initiatives were published in the original Federal Register and appear herein. The remaining initiatives were subject to either DoD or AF regulation and waivers were sought at those levels.

2. Overview

This Federal Register notice (FRN) supersedes the four previous AFRL Demonstration Project FRNs. Substantive changes include updating the Demonstration Project Reduction-in-Force (RIF) procedures; expanding the coverage of the Demonstration Project to include AFRL employees in Business Management and Professional, Technician, and Mission Support occupations; and the ability to establish an Above GS-15 authority (broadband level V). In this FRN, AFRL is also adopting flexibilities from other STRL personnel demonstration projects. Additional flexibilities include using an alternative examining process; implementing the Distinguished Scholastic Achievement Appointment authority; expanding the use of temporary promotions and details; authorizing pay setting flexibilities; and requiring the Demonstration Project to be cost disciplined. Also, the expanded plan reduces the number of factors from six to four, with corresponding descriptors for each broadband level in a career path.

AFRL requested no waivers to veterans' preference statutes. Therefore, AFRL will fully comply with all veterans' preference act obligations.

The original AFRL Personnel Management Demonstration Project plan was published in 61 FR 60399, November 27, 1996. This Demonstration Project plan involves simplified, delegated position classification; two types of appointment authorities; an extended probationary period; broadbanding; and a Contribution-based Compensation System (CCS). Three amendments to the final plan were published in the Federal Register. The first amendment to clarify which employees are subject to the extended probationary period; provide the CCS bonus to eligible employees subject to the General Schedule (GS) 15, step 10 pay cap; and change the names of the descriptor “Cooperation and Supervision” and CCS Factor 6, “Cooperation and Supervision,” to “Teamwork and Leadership” was published in 65 FR 3498, January 21, 2000. The second amendment changed the amount of time required to be assessed under CCS from 180 to 90 calendar days and was published in 70 FR 60495, October 18, 2005. The third amendment eliminating mandatory factor weights was published in 74 FR 15463, April 6, 2009.

Flexibilities published in this Federal Register notice shall be available for use by all STRLs listed in section 9902(c)(2) of title 5, United States Code, as redesignated in Public Law 111-84, section 1105, if they wish to adopt them in accordance with DoD Instruction 1400.37; pages 73248 to 73252 of volume 73, Federal Register; and the fulfilling of any collective bargaining obligations.

3. Summary of Comments

Nine e-mails from nine commenters containing numerous comments were received regarding the AFRL Laboratory Demonstration Project, Federal Register, 75 FR 27866, dated May 18, 2010. The following is a summary of these written comments by topical area and a response to each. In some cases, commenters were contacted directly and provided extensive replies to their comments.

(1) Problems With the Present System

Comments: One commenter expressed his concern about his perception of the routine filling of certain vacant positions such as senior program management, deputy chief information officer, deputy director, etc., with personnel who possess a scientific or engineering degree which reduces job opportunities for individuals assigned to other professional series.

Response: Managers must still identify each position to the proper series based on the duties of the position. The Demonstration Project believes that first and second-level supervisors are in the best position to determine the appropriate occupational series needed to satisfy mission requirements. Such flexibility is key to the success of the Demonstration Project. The issues raised by the commenter are not specific to the Demonstration Project and should be addressed through other mechanisms, such as “Ask the Commander” forums or discussions within the technology directorate.

Comments: A commenter asked a series of questions as to whether job analyses were completed prior to the initial implementation of the Demonstration Project and prior to the expansion of the Demonstration Project.

Response: While job analyses are one acceptable way of designing a new performance management system, AFRL senior management chose not to use this methodology. Rather, AFRL utilized existing Office of Personnel Management (OPM) classification standards, which have been determined by OPM to be reliable and valid, to design the classification and CCS factors and descriptors used within the Demonstration Project. AFRL did not have total independence in designing this system because of the requirement to remain competitive with other Federal agencies. Due to the provision of seamless broadband movement, which is one of the signature initiatives being tested in the AFRL demonstration project, it was critical that the performance management system (CCS) and, in particular, the factors and descriptors, be tied to the established Federal Classification System. While OSD now has approval authority, OPM and OSD were highly involved in the original design of the factors and descriptors used in the classification and CCS processes. By approving the 1996 AFRL Federal Register notice publication, DoD and OPM signaled their agreement with the validity of the classification and CCS processes. The same methodology was used for the expanded workforce that was used in the 1990s for the S&Es.

Comments: One commenter expressed concern about her perception that the Demonstration Project was not successful.

Response: A survey has been conducted bi-annually since the inception of the Demonstration Project. Survey results show approximately 80% of AFRL Demonstration Project employees are in favor of the Demonstration Project and show a high level of support for expansion of the Demonstration Project authorities to the non-bargaining unit members.

(2) Participating Employees and Labor Participation

Comments: A commenter expressed concern about his perception that inclusion of bargaining unit positions in the Demonstration Project would not be negotiated in good faith. The commenter suggested that the AFRL and Air Force Material Command (AFMC) Commanders or the Chief of Staff of the Air Force personally engage in all future Demonstration Project union negotiations and include Federal Mediation and Conciliation Service involvement.

Response: AFRL is currently in communication with potentially affected unions. After publication of the final Federal Register notice, AFRL will work with affected unions to negotiate openly to reach a consensus position on this important issue at appropriate levels and times.

(3) Description of Hiring Process

Comments: A commenter suggested that the Federal Register notice should clearly state what veterans' preference hiring obligations are under the Demonstration Project and how compliance is being measured in a public and transparent manner. The commenter also suggested establishing and measuring (through CCS) goals for veterans' preference interviews and hiring under the Demonstration Project. Additionally, the commenter stated that veterans' preference applies to merit promotions under the GS system and inquired as to how it pertains to broadband movements in the Demonstration Project.

Response: AFRL requested no waivers to veterans' preference rules and regulations. Therefore, AFRL will fully comply with all veterans' preference obligations. Clarifying language has been added to the Overview section of this Federal Register notice. Additionally, AFRL monitors its external hiring of veterans to ensure they are treated fairly in the selection process. Results are briefed semi-annually to the AFRL Corporate Board, a body of senior leaders within the Laboratory. It is noted that veterans' preference does not apply to merit promotions in the GS system or to broadband movements in the Demonstration Project.

Comments: One commenter recommended that the Distinguished Scholastic Achievement Appointment Authority include candidates who are within the top 10 percent of a university's major school of undergraduate studies.

Response: Recommendation has been adopted.

Comments: OSD has indicted that the Distinguished Scholastic Achievement Appointment Authority may not be the appropriate venue for an expedited hiring authority for the occupational series in the Business Management and Professional career path (DO broadband). Additional research on hiring difficulties for these positions, the new OPM hiring reform initiatives, use of current expedited hiring authorities covering some of the DO positions, and potential impact on OPM qualifications standards may be warranted.

Response: The Distinguished Scholastic Achievement Appointment Authority will not be utilized for the Business Management and Professionals at this time. AFRL will work with OSD on possible streamlined hiring initiatives for various positions within the DO career path at a later date. The Description of Hiring section has been updated to reflect this change.

Comments: One commenter recommended removing the following words from the criteria for converting an employee serving on a modified term appointment to a career appointment: “Be selected under merit staffing procedures for the permanent position.” The employee would have been initially selected under competitive procedures and there is no requirement to apply merit system principles again to fill the position permanently.

Response: Recommendation has been adopted.

Comments: A commenter recommended clarifying that since one of the requirements for a non-competitive conversion of a modified term employee is to have served a minimum of two years of continuous service in the term appointment this period of employment may be counted toward the completion of the extended probationary period.

Response: Clarification has been added to the Extended Probationary Period Section.

Comments: A commenter stated that AFRL must ensure that opportunities for non-competitive temporary promotions and details are based on the criteria in title 5, Code of Federal Regulations (CFR) 335.103(b)(1).

Response: This Federal Register notice waives 5 CFR 335.103(c) to allow for non-competitive temporary promotions and details in excess of 120 days. However, AFRL will ensure decisions are made consistent with merit principles; are based on job-related criteria as spelled out in 5 CFR 335.103(b)(1); and will require appropriate approvals on all actions. Implementing instructions will be described in internal AFRL issuances.

Comments: A commenter inquired as to whether expanded temporary promotions and details will be limited to actions within the same career path.

Response: Temporary promotions and details are permitted across career paths provided qualification requirements are met.

Comments: A commenter requested clarification as to how the Broadbanding Structure table, in the Broadbanding section, will be used for initial employee conversion into the Demonstration Project.

Response: The commenter is referring to the methodology used to establish the banding structure. This should not be confused with the determination of what band an employee will be placed in upon conversion into the Laboratory Demonstration Project. Employees will move into the career path and broadband level that coincides with their permanent GS grade and occupational series, unless their basic salary falls outside the pay range, a situation which would require a special review. For clarification, the Conversion to the Demonstration Project section has been changed to state “Employees are converted into the career path and broadband level which includes their permanent GS/GM grade and occupational series of record, unless there are extenuating circumstances which require individual attention, such as special pay rates or pay retention.”

Comments: A commenter pointed out that there is no mention of a temporary appointment authority (only career and modified term).

Response: The Demonstration Project will continue to use the temporary appointment authority as provided under title 5, U.S.C. and title 5, CFR. Clarifying language has been added.

(4) Pay Setting Outside the CCS

Comments: A commenter recommended that a bonus may be given in lieu of a basic pay increase.

Response: Recommendation has been adopted.

Comments: A commenter recommended that “CCS bonus” be referred to as “CCS incentive.”

Response: Recommendation was considered but not adopted. “CCS bonus” better describes the intent of this authority.

Comments: The same commenter recommended that retention, recruitment, and relocation “payments” be referred to as retention, recruitment, and relocation “incentives.”

Response: Recommendation has been adopted.

Comments: A commenter expressed concern that the authority to grant a relocation bonus to a Student Career Experience Program (SCEP) student could be abused. The commenter also recommended that a Continuing Service Agreement (CSA) be required for SCEP students receiving a relocation bonus and suggested that management ensure that their home of record is not located within the commuting area of the work location.

Response: Safeguards are being put in place through internal AFRL issuances. Management will be required to justify each bonus granted and maintain documentation to this effect. The recommendation to require a CSA was considered but not adopted. A student's home of record will be documented and maintained by management.

Comments: A commenter suggested specific minimum requirements (e.g., length of time, CCS rating, etc.) that must be met before a basic pay increase can be granted under the accelerated compensation authority for local interns or risk rampant accelerated compensation, which will impact the Demonstration Project cost discipline philosophy.

Response: Safeguards, such as minimum delta Overall Contribution Score (OCS) and one basic pay increase per year, are being implemented through internal AFRL issuances.

(5) Broadbanding

Comments: A commenter pointed out that in paragraph 3, reference to “Table 2” should be “Table 1.”

Response: The reference to this table was changed.

Comments: A commenter expressed concern that there could be a potential issue in recruiting for broadband level I, at the GS-7 equivalency, due to the education requirements and/or applicants' lack of required specialized experience. There would be more flexibility for management if the broadband level I began at the GS-5 equivalency versus the GS-7 equivalency in the DO career path.

Response: Comment was considered. Management made a conscious decision to set the minimum equivalent grade at the GS-7 for the DR and DO career paths. The DR career path has been set at this level since the inception of the Demonstration Project and senior management was not willing to reduce expectations for the DO career path.

Comments: A commenter had concerns over using the same number structure for the different broadbands in the different career paths.

Response: The assigned pay plan (i.e., DR, DO, DU, or DX) first identifies the career path for a given position/person. The broadband level (i.e., I, II, III, or IV) is then assigned based on the duties of the position. This is an accepted nomenclature and the same structure used by other demonstration projects and alternative personnel systems.

Comments: The commenter had concerns about the lack of information in the Federal Register notice regarding broadband V positions.

Response: The broadband V (or Above GS-15) position concept is an OSD initiative that was tested in Army and Navy Laboratory demonstration projects. AFRL did not participate in the initial trial of this concept, which consisted of 40 positions. This FRN provides a basic description of broadband V positions. OSD will publish a Federal Register notice and manage the final authority, to include salary ranges, for these positions. OPM has been consulted by OSD on this initiative and is interested in the proposal.

(6) Classification

Comments: In the Classification Authority and Reduction-in-Force sections, a commenter noted that “technical director” should read “technology director.”

Response: This was changed.

Comments: Under Classification Process, recommend that pay plan and broadband level be added to the second sentence of paragraph (a).

Response: Recommendation has been adopted.

Comments: A comment was received regarding application of acquisition professional development requirements to positions and the impact on broadband movements.

Response: This Demonstration Project Federal Register notice documents changes to title 5, U.S.C. and to title 5, CFR. These suggestions are not a part of either title 5 requirements and therefore, are not appropriate for Federal Register publication. However, AFRL follows Defense Acquisition Workforce Improvement Act (DAWIA) requirements for coding acquisition positions. The Demonstration Project must operate within the DAWIA laws and, as such, ensures that these requirements are met prior to allowing seamless, competitive, or non-competitive broadband movements to occur.

Comments: Comments were received as to what level the Classification Authority may be delegated.

Response: This authority is delegated to the technology directors or pay pool managers, who may further delegate to not lower than one management level above the first-level supervisor of the position under review. Clarification has been added to the Classification Authority section.

Comments: Recommend that language be clarified to include that supervisors or Senior Personnel Advisors (SPAs) may create an electronic Statement of Experience and Duties (SDE).

Response: Recommendation has been adopted.

(7) CCS

Comments: Commenters expressed concerns about their perceptions regarding equity and fairness of quantitative ratings of individual employee performance and indicated support of qualitative measures of group performance instead. Also, comments were received on how one's opportunity for advancement may be impacted by the pay pool to which assigned. Therefore, the commenters support the use of one AFRL-wide pay pool.

Response: The concerns regarding quantitative ratings and the commenter's support of qualitative measures were very technical in nature and have therefore been directly addressed in detail to the commenter.

In regard to the concern over advancement opportunities, the use of multiple pay pools allows employees to be assessed in an environment where a number of managers are aware of each employee's contribution relative to his/her peers. An AFRL-wide pay pool would be unwieldy and would not yield the checks and balances currently in place with the directorate-based pay pools.

Comments: A commenter questioned the reliability of factor weights.

Response: While the November 1996 AFRL Federal Register notice and April 2009 Federal Register notice described use of factor weights, it is now AFRL's intent not to utilize factor weights with the change to four factors for S&Es and establishment of four factors for the expanded workforce. Therefore, the description of factor weights was not in the May 2010 Federal Register notice publication, nor in this one. This publication supersedes all previous Federal Register notices.

Comments: A comment was received that the Federal Register notice makes no mention of how long-term additional duties or Integrated Project Team duties may be used to increase an employee's contribution level.

Response: The AFRL contribution-based system empowers employees to seek additional opportunities which are taken into consideration when determining overall contribution level. Long-term additional duties and team participation are examples of opportunities which may impact an employee's CCS score and should be discussed in feedback sessions between the employee and supervisor. The CCS factors and descriptors are tools that may be used as the employee's roadmap to higher level contribution.

Comments: A commenter expressed concern over the lack of information on a CCS bonus.

Response: The authority to authorize a bonus was included in this Federal Register notice in order to provide supervisors and managers access to an additional tool to appropriately recognize outstanding contributions based on the level and type of contributions as well as their overall impact on mission. AFRL does not intend to utilize this bonus authority until a determination has been made as to the need and adequate processes are implemented to describe how this bonus will be paid. AFRL implementing issuances will be updated prior to the use of this authority.

Comments: A commenter cited concerns about her perception of fairness and transparency of the Meeting of Managers (MoM), CCS, and the seamless broadband movement process.

Response: The MoM is a process that allows supervisors to discuss employee contributions and come to agreement on equivalent levels of contribution. Every employee is encouraged to provide details to their supervisor of their yearly accomplishments for each factor. This helps supervisors understand how employees perceive their work and its role in helping to meet the mission. Supervisors use these self-assessments and their own knowledge of each employee's contributions as a starting point for determining preliminary CCS scores. Overall Contribution Scores are not assigned by individual supervisors; rather they are assigned by the group of supervisors attending the MoMs. This process reduces possible unfairness issues when only one person assigns a score, encourages communication within the directorate, and includes extra layers of checks and balances by providing a mechanism to ensure equitability of scores across branches and divisions and, ultimately, the directorate/pay pool. Supervisors discuss contributions with each employee after scores have been finalized. Employees may utilize the grievance process, which provides for third party review, if they do not agree with the CCS score assigned.

To facilitate transparency and openness in the CCS process, there are two mandatory feedback sessions built into the CCS process. Supervisors are required to discuss employee contributions, professional development and training needs, and expectations with each employee after the rating cycle ends and midway through the cycle. In addition, supervisors and employees are encouraged to maintain open lines of communication and discuss expectations throughout the year.

The seamless broadband movement is facilitated by increases in score and basic pay based on the assessment of employee contributions, as well as consideration of many other aspects. As stated in the Broadband Movement section, “If an employee's contributions impact and broaden the scope, nature, intent and expectations of the position and are reflective of higher level factor descriptors, the classification of the position is updated accordingly.” In addition, an employee's basic pay must be at a level consistent with the higher broadband level. Therefore, two employees may receive the same score but broadband movement may not be appropriate for both employees. An employee's proven ability to maintain the higher level contribution, level of education, completion of Professional Military Education (PME), breadth of experience, and demonstrated leadership are all factors in a Pay Pool Manager's decisions when approving broadband movements. The mandatory feedback sessions and open lines of communication between employees and supervisors provide employees with expectations so that employees understand what is needed for a broadband movement. This provides transparency and openness in the seamless broadband movement process.

Additionally, the AFRL Corporate Board reviews the extensive evaluations that are conducted after each rating cycle and issues corporate guidance on managing pay pools to ensure consistency, greater transparency, etc. Bi-annual surveys of all employees are conducted and, based upon results, focus groups or additional surveys are accomplished in order to identify, and then correct, unintended consequences or negative perceptions. Supervisors are required to take mandatory courses on the CCS process, CCS software, and providing effective CCS feedback. Technology directorate-specific continuing training is also offered to employees.

Comments: A commenter presented a lengthy technical paper expressing concern over the design of the Contribution-based Compensation System.

Response: A paper addressing these concerns was sent directly to the commenter. No changes were made to the CCS design as a result of this comment.

(8) SPL

Comments: One commenter pointed out that the Mission Support SPL and the Technician SPL are transposed.

Response: The Mission Support SPL and the Technician SPL are now correct.

(9) Pay Pools

Comments: A commenter expressed concerns that a pay pool of 35 employees would be too small to yield statistically valid results.

Response: A pay pool of 35 is consistent with the approach used by OPM for other demonstration projects. The AFRL pay pools are defined by technology directorate/functional area to implement the “same mission” principal. With this definition, the smallest pay pool for the 2009 cycle had 59 employees.

In the Demonstration evaluation effort, only descriptive statistics are used at the pay pool level of analysis. The entire Laboratory Demonstration Project population is used for more complex statistical analyses that use confidence intervals. This minimizes the potential for any group of interest in a given analysis to be so small that the resulting confidence interval is so large as to mask important differences in results for the groups. AFRL senior leadership reviews CCS results on a yearly basis and is satisfied with the results of the statistical analysis.

(10) Broadband Level Movements

Comments: One commenter expressed concern over a lack of information as to whether an employee could be moved to a higher broadband level if his or her immediate supervisor is at the higher broadband level. For example, could an employee be moved to a broadband level III if their supervisor is a broadband level III?

Response: The Demonstration system is not hierarchical; meaning a supervisor's broadband level is based on the contributions he/she has made to the organization, and not based on the broadband levels of subordinate employees, as is typical under other personnel systems. Therefore, supervisors may supervise employees at lower, the same, or higher broadband levels. Due to the comment received, clarifying language was added to the Classification section of this Federal Register notice.

Comments: A commenter asked if a specified amount of growth or delta is required for broadband movement.

Response: A broadband movement may be granted when the employee consistently contributes at the level as described in the broadband level descriptors for the next higher broadband level, receives basic pay commensurate with the higher broadband level, demonstrates the ability to maintain the higher level contribution, and has met any additional criteria established by the Pay Pool Manager. As described in greater detail in the Broadband Movement section of this notice, broadband movement is based on a combination of OCS and basic pay. Delta is not a direct contributing factor to broadband movement. However, continual growth, which is the difference between current and previous year's score, would be an indication of consistently contributing at higher levels.

Comments: A commenter expressed a concern that employees may be assigned duties outside their SDE and perhaps would not be given appropriate job skills/experience coding.

Response: The SDE has been structured generally so that employees may seek opportunities for additional experience and contribution. If the skill codes of a position change over time, a personnel action is processed to document this change.

(11) Voluntary Pay Reduction and Pay Raise Declination

Comments: One commenter recommended including that a voluntary pay reduction or pay raise declination could also be requested by employees during the 30-day period immediately following a CCS grievance decision.

Response: Recommendation has been adopted.

(12) Voluntary Emeritus Corps

Comments: A commenter recommended requiring that volunteers not be permitted to report for duty prior to finalization of the required agreement.

Response: Recommendation has been adopted.

(13) Conversion

Comments: For clarification, a commenter recommended rewording the first sentence of the Conversion to Another Personnel System section to state: The pay-setting rules of the gaining pay system will apply when employees leave the AFRL broadbanding system to accept Federal employment in another personnel system.

Response: Suggestion is adopted.

Comments: A commenter requested clarification as to whether, and to what extent, a supervisor has the discretion to set the initial broadband level for converting employees.

Response: Supervisors will not make the initial broadband level determination upon conversion. For clarification, the Conversion to the Demonstration Project section has been changed to state “Employees are converted into the career path and broadband level which includes their permanent GS/GM grade and occupational series of record, unless there are extenuating circumstances which require individual attention, such as special pay rates or pay retention.

(14) Reduction-in-Force

Comments: One commenter recommended that trial period employees also be included in tenure group I for RIF purposes.

Response: Recommendation has been adopted. Clarification as to who serves probationary and trial periods, and how it impacts RIF, was added to the RIF and Probationary Period sections.

Comments: A commenter suggested clarification as to how contribution will affect RIF retention.

Response: There are no additional years of service added to service computation dates based on contribution scores, rather, contribution scores are used as a sort factor. The Reduction-in-Force section has been clarified.

(15) Appendix A

Comments: For occupational series 0199, change Social Science Student to Social Science Student Trainee. Also, for occupational series 0401, change Trainee General Biological Science to General Biological Science.

Response: Changes are accepted.

Comments: The list of DO pay plan occupational series was inadvertently truncated. Recommend the following occupational series be included: 0018 Safety and Occupational Health Management, 0028 Environmental Protection Specialist, 0030 Fitness and Sports Specialist, 0080 Security Administration, 0099 Security Student Trainee, 0101 Social Scientist, 0110 Economist, 0669 Medical Records Administration, 1040 Language Specialist, 1060 Photography, 1071 Audiovisual Production, 1082 Writing and Editing, 1083 Technical Writing and Editing, 1084 Visual Information.

Response: These DO occupational series are added.

(16) Waivers to title 5, CFR

Comments: Recommend part 213, section 213.3202, Tenure Group, be waived to allow Excepted Service employees to be in tenure group I.

Response: Recommendation has been adopted.

Comments: Recommend that part 340, subpart A, subpart B, and subpart C, Other than Full-Time Career Employment, be waived to also allow for Excepted Service employees to be in tenure group I.

Response: Recommendation has been adopted.

(17) Professional Military Education (PME) Requirement

Comments: A commenter recommended that the Demonstration Project include a permanent provision that graduation from the in-residence United States Air Force Senior Noncommissioned Officer Academy permanently satisfies the AFMC Professional Military Education (PME) requirement.

Response: The Demonstration Project Federal Register notice documents changes to title 5, U.S.C. and title 5, CFR. This suggestion is outside the scope of both title 5, U.S.C. and title 5, CFR requirements and therefore, is not appropriate for Federal Register publication. As the commenter noted, policies related to this matter have been crafted at the HQ AFMC level.

Dated: August 24, 2010.
Mitchell S. Bryman,
Alternate OSD Federal Register Liaison Officer, Department of Defense.

Table of Contents

I. Executive Summary

II. Introduction

A. Purpose

B. Problems With the Present System

C. Changes Required/Expected Benefits

D. Participating Employees and Labor Participation

E. Project Design

III. Personnel System Changes

A. Hiring and Appointment Authorities

B. Pay Setting Outside the Contribution-Based Compensation System

C. Broadbanding

D. Classification

E. Contribution-Based Compensation System

F. Dealing With Inadequate Contributions

G. Voluntary Emeritus Corps

H. Reduction-in-Force Procedures

IV. Training

V. Conversion

A. Conversion to the Demonstration Project

B. Conversion to Another Personnel System

VI. Project Duration and Changes

VII. Evaluation Plan

VIII. Demonstration Project Costs

IX. Required Waivers to Law and Regulation

A. Waivers to Title 5, United States Code

B. Waivers to Title 5, Code of Federal Regulations

Appendix A. Career Path Occupational Series

Appendix B. Descriptors Sorted by Career Path, Broadband Level, and Factor

Appendix C. Descriptors Sorted By Career Path, Factor, and Broadband Level

I. Executive Summary

The original Project was designed by the Department of the Air Force (AF), with participation of and review by the DoD and the Office of Personnel Management (OPM). The purpose was to achieve the best workforce for the Laboratory mission, prepare the workforce for change, and improve workforce quality. The Project framework addressed all aspects of the human resources life cycle model. There were three major areas of change: (1) Laboratory-controlled rapid hiring; (2) a Contribution-based Compensation System; and (3) a streamlined removal process.

Initially, the Project covered only professional S&E positions and employees. This Federal Register notice incorporates a design for coverage of not only S&E employees but also the AFRL employees in Business Management and Professional, Technician, and Mission Support occupations.

II. Introduction

A. Purpose

The purpose of the Project is to demonstrate that the effectiveness of DoD laboratories can be enhanced by allowing greater managerial control over personnel functions and, at the same time, expanding the opportunities available to employees through a more responsive and flexible personnel system. This Demonstration Project, in its entirety, attempts to provide managers, at the lowest practical level, the authority, control, and flexibility needed to achieve a quality Laboratory and quality products.

B. Problems With the Present System

The success of the Demonstration Project for S&E personnel has convinced AFRL management that the same system should be implemented for the remaining AFRL workforce. The Laboratory Demonstration Project implemented a broadbanding structure that replaced the 15 grades under the GS classification structure. This flexibility has enabled management to offer competitive starting salaries and seamlessly progress employees through the broadband levels based on contribution to the mission. The CCS has provided management an effective, efficient, and flexible method for assessing, compensating, and managing the S&E workforce. CCS has created more employee involvement in the assessment process, increased communication between supervisors and employees, promoted a clear accountability of contribution, facilitated employee career progression, and provided an understandable basis for basic pay changes.

The civilian GS personnel system has several major inefficiencies, which hinder management's ability to recruit and retain the best-qualified personnel. Line managers have only limited flexibility to administer personnel resources, and existing personnel regulations are often in conflict with management's ability to support world-class research. Current personnel action processes cause delays in recruiting, reassigning, promoting, and removing employees. AFRL received no hiring authorities with the initial Demonstration Project implementation. Laboratories that implemented their authorities at a later time received hiring flexibilities that AFRL now wishes to pursue.

The GS classification system requires lengthy, narrative, individual position descriptions, which have to be classified by the use of complex and often outdated position classification standards. The classification process under the AFRL Demonstration Project has been highly successful, can be accomplished quickly and efficiently, and has given managers control over their workforce.

The current RIF system, for both GS and demonstration project employees, does not adequately recognize contribution as a major criterion in RIF situations. The RIF rules are complex and difficult to understand and administer. The RIF process disrupts operations, due to displacement of employees within their competitive levels and in the exercise of bump and retreat rights.

The same flexibilities for attracting and retaining highly talented employees from which AFRL currently benefits for the S&E workforce should not be limited to the S&E career path. The success of the Laboratory is dependent on its total workforce not just S&E personnel; thus, the demonstration project flexibilities should be extended to the entire Laboratory workforce. The new authorities will provide additional management tools that will enable AFRL to attract and retain the best and brightest employees for all career paths.

C. Changes Required/Expected Benefits

The AFRL Demonstration Project has demonstrated that a human resource system tailored to the mission and needs of the Laboratory results in: (a) Increased quality of the workforce and the Laboratory products they produce; (b) increased timeliness of key personnel processes; (c) trended workforce data that reveals increased retention of “excellent contributors” and increased separation rates of “poor contributors;” and (d) increased employee satisfaction with the Laboratory.

D. Participating Employees and Labor Participation

There are approximately 5,025 employees assigned to AFRL, with the majority located in or at Arlington, Virginia; Brooks City Base, Texas; Edwards Air Force Base (AFB), California; Eglin AFB, Florida; Hanscom AFB, Massachusetts; Kirtland AFB, New Mexico; Rome, New York; Tyndall AFB, Florida; and Wright-Patterson AFB, Ohio. Employees are also located at sites around the world.

Of the 5,025 AFRL employees, approximately 2,630 are currently in the Demonstration Project. The National Federation of Federal Employees (NFFE) and the American Federation of Government Employees (AFGE) represent professional and nonprofessional employees at many sites within AFRL. At this time, there are approximately 140 employees in the NFFE and AFGE bargaining units that are in the Demonstration Project. AFRL is proceeding to fulfill its obligation to consult or negotiate with the unions, as appropriate, in accordance with 5 U.S.C. 4703(f) and 7117. AFRL plans to initially convert the non-bargaining unit workforce into the Project with the hope of successfully negotiating with the impacted unions to convert the remaining Business Management and Professional, Technician, and Mission Support workforce into the Project at a later date.

In determining the original scope of the Demonstration Project, primary consideration was given to the number and diversity of occupations within the Laboratory and the need for adequate development and testing of the Contribution-based Compensation System. Additionally, DoD human resource management design goals and priorities for the entire civilian workforce were considered. While the intent of this Project is to provide the AFRL Commander/Executive Director and subordinate supervisors with increased control and accountability for their total workforce, the decision was made to initially restrict development efforts to GS/GM positions within the professional S&E specialties.

With this expansion effort, a total of 155 occupational series are included in the Project. During the course of the Project, other series may be included or moved to a more appropriate career path. For instance, a path for physicians and dentists may be added to the Project at a later date.

The series included in the initial implementation of the Project were placed in the S&E career path (pay plan DR). The success of the Demonstration Project for the S&Es has proven that it is prudent to expand the flexibilities to the AFRL workforce in Business Management and Professional, Technician, and Mission Support occupations. This Federal Register notice proposes implementation of three new career paths for the Business Management and Professional (pay plan DO), Technician (pay plan DX), and Mission Support (pay plan DU) occupations. The new career paths are constructed based on career progression and occupational responsibilities, taking into consideration the AFRL workforce, the existing S&E career path and the design of other Defense laboratory broadbanding systems. The career paths along with the occupational series included are listed in Appendix A. Series may be added or deleted as mission work evolves and new competencies are needed.

E. Project Design

For the expansion design, the AFRL Demonstration Project Office recruited volunteers from the 10 AFRL directorates. Most team members were drawn from the career fields being considered for expansion, although some engineers were on the team to assist with understanding the current authorities. The team considered existing AFRL authorities in addition to authorities and design elements of the other DoD Personnel Management Demonstration Project laboratories and other Federal alternative personnel systems.

Although some of the original initiatives addressed recruiting and hiring issues, the Demonstration Project was not able to implement hiring flexibilities with the original publication. Additionally, the RIF changes were denied at the last minute, leaving only a change in how additional service credit was awarded based on the CCS scores. This Federal Register adopts hiring authorities currently utilized by other DoD STRL Personnel Demonstration Projects and implements a redesigned RIF methodology, which simplifies and strengthens the process.

III. Personnel System Changes

A. Hiring and Appointment Authorities

1. Description of Hiring Process

At this time, AFRL is implementing a streamlined examining process as demonstrated in other Defense Personnel Management Demonstration Project laboratories. This applies to all positions in AFRL, with the exception of Senior Executive Service (SES), Scientific or Professional (ST), and broadband V positions and any examining process covered by court order. This authority includes the coordination of recruitment and public notices, the administration of the examining process, the certification of candidates, and selection and appointment consistent with merit system principles, to include existing authorities under title 5, U.S.C. and title 5, CFR. The “rule of three” is eliminated, similar to the authorities granted to: (1) Naval Research Laboratory (NRL), 64 FR 33970, June 24, 1999; (2) Naval Sea (NAVSEA) Systems Command Warfare Centers, 62 FR 64049, December 3, 1997; and (3) Communications-Electronics Research, Development, and Engineering Center (CERDEC), 66 FR 54871, October 30, 2001. When there are no more than 15 qualified applicants and no preference eligibles, all eligible applicants are immediately referred to the selecting official without rating and ranking. Rating and ranking are required only when the number of qualified candidates exceeds 15 or there is a mix of preference and nonpreference applicants. Statutes and regulations covering veterans' preference are observed in the selection process and when rating and ranking are required.

AFRL's Distinguished Scholastic Achievement Appointment Authority (DSAA) uses an alternative examining process which provides the authority to appoint individuals with undergraduate or graduate degrees through the doctoral level to professional positions up to the equivalent of GS-12 in series identified in the S&E career path. This enables AFRL to respond quickly to hiring needs for eminently qualified candidates possessing distinguished scholastic achievements. This flexibility is similar in nature to the authority granted to: (1) The Army Missile Research, Development, and Engineering Center (AMRDEC), 64 FR 12216, March 11, 1999; (2) Army Research Laboratory (ARL), 65 FR 3500, January 21, 2000; (3) Army Engineer Research and Development Center (ERDC), 64 FR 12216, March 11, 1999; and (4) NAVSEA, 62 FR 64064, December 3, 1997.

Candidates may be appointed provided they meet the minimum standards for the position as published in OPM's operating manual, “Qualification Standards for General Schedule Positions” and the candidate has a cumulative grade point average of 3.5 (on a 4.0 scale) or better in their field of study (or other equivalent score) or are within the top 10 percent of a university's major school of undergraduate or graduate studies, such as Business School, Law School, etc.

2. Qualification Determinations

A candidate's basic eligibility is determined using OPM's “Qualification Standards Handbook for General Schedule Positions.” Selective placement factors may be established in accordance with OPM's Qualification Handbook when judged to be critical to successful position contribution. These factors are communicated to all candidates for particular position vacancies and must be met for basic eligibility.

S&E (pay plan DR) and Business Management and Professional (pay plan DO) occupations: The DR and DO pay plans' broadband level I minimum eligibility requirements are consistent with the GS-07 qualifications. Broadband level II minimum eligibility requirements are consistent with the GS-12 qualifications. Broadband levels III and IV are single-grade broadband levels and consistent the minimum qualifications for the respective GS grades of 14 and 15.

Technician (pay plan DX): The DX pay plan broadband level I minimum eligibility requirements are consistent with the GS-01 qualifications. Broadband level II minimum eligibility requirements are consistent with the GS-05 qualifications. Broadband level III minimum eligibility requirements are consistent with the GS-08 qualifications. Broadband IV minimum eligibility requirements are consistent with the GS-11 qualifications.

Mission Support (pay plan DU): The DU pay plan broadband level I minimum eligibility requirements are consistent with the GS-01 qualifications. Broadband level II minimum eligibility requirements are consistent with the GS-05 qualifications. Broadband level III minimum eligibility requirements are consistent with the GS-07 qualifications. Broadband IV minimum eligibility requirements are consistent with the GS-09 qualifications.

3. Appointment Authority

The career-conditional appointment authority is not used under the Demonstration Project. Regular career appointments, temporary appointments, excepted service appointments, and modified term appointments are utilized. The modified term appointment is described below.

4. Modified Term Appointments

The Laboratory conducts many Research and Development (R&D) projects that range from three to six years. The current four-year limitation on term appointments imposes a burden on the Laboratory by forcing the termination of some term employees prior to completion of projects they were hired to support. This disrupts the R&D process and reduces the Laboratory's ability to serve its customers. Under the Demonstration Project, AFRL has the authority to hire individuals under modified term appointments. These appointments are used to fill positions for a period of more than one year but not more than five years when the need for an employee's services is not permanent. The modified term appointment differs from term employment as described in 5 CFR part 316 in that it may be made for a period not to exceed five years, rather than four years. In addition, the AFRL Commander/Executive Director and pay pool managers are authorized to extend a term appointment one additional year. Employees hired under the modified term appointment authority may be eligible for conversion to career appointments. To be converted, the employee must: (1) Have been selected for the term position under competitive procedures, with the announcement specifically stating that the individual(s) selected for the term position(s) may be eligible for conversion to career appointment at a later date; (2) served a minimum of two years of continuous service in the term position; and (3) have a current delta CCS rating greater than −0.3.

5. Extended Probationary Period

A new employee needs time and opportunities to demonstrate adequate contribution for a manager to render a thorough evaluation. The purpose of the extended probationary period or trial period is to allow supervisors an adequate period of time to fully evaluate an S&E employee's contribution and conduct. An extended probationary or trial period of three years applies to all newly hired S&E employees and SCEP students earning a scientific or engineering degree, including individuals entering the Demonstration Project after a break in service of 30 calendar days or more. Employees who enter the Demonstration Project with a break in service of less than 30 calendar days are not required to complete an extended probationary or trial period if their previous service was in the same line of work as determined by the employee's actual duties and responsibilities upon reappointment.

Employees on non-status appointments will be subject to the trial period required by their appointing authority. Upon conversion from a non-status appointment to a competitive service appointment, employees will be required to serve a three-year probationary period. However, employees serving on a modified term appointment will serve a three-year trial period. Upon conversion to competitive service, the period of employment served on a modified term appointment will be counted toward the completion of the extended probationary period.

Student Career Experience Program (SCEP) students earning a scientific or engineering degree are required to serve the extended probationary period upon non-competitive conversion to career appointment. The requirements in 5 CFR 315.802(c) apply when determining creditable service.

Current permanent Federal employees hired into the Demonstration Project are not required to serve a new probationary or trial period. Any employee appointed prior to the date of this Federal Register notice will not be affected. Supervisory probationary periods are made consistent with 5 CFR part 315.

Probationary periods for employees in other career paths remain unchanged.

Aside from extending the time period, all other features of the current probationary or trial period are retained including the potential to remove an employee without providing the full substantive and procedural rights afforded a non-probationary employee when the employee fails to demonstrate proper conduct, competency, and/or adequate contribution during the extended probationary period.

When terminating probationary or trial employees, AFRL provides employees with written notification of the reasons for their separation and provides the effective date of the action.

6. Expanded Temporary Promotions and Details

Under GS rules, details and temporary promotions to higher graded positions cannot exceed 120 days without being made competitively. AFRL may effect details to higher broadband level positions and temporary promotions of not more than one year within a 24-month period without competition, with the ability to extend one additional year, to positions within the Demonstration Project. This is similar to the authority granted to the NRL in 64 FR 33970, June 24, 1999.

B. Pay Setting Outside the CCS

Management has authority to establish appropriate basic pay for employees moving within and into the Demonstration Project through internal and external competitive and non-competitive authorities. The basic pay of newly hired personnel entering the Demonstration Project is set at a level consistent with the expected contribution of the position based on the individual's academic qualifications, competencies, experience, scope and level of difficulty of the position, and/or expected level of contribution. Pay pool managers may establish specific pay setting criteria. Basic pay is limited to that equal to GS-15, step 10. A bonus may be considered in addition to or in lieu of a basic pay increase.

The authorities for retention, recruitment, and relocation incentives granted under 5 CFR part 575 have been delegated to the AFRL Commander/Executive Director and pay pool managers. Eligibility and documentation requirements, as described in 5 CFR part 575, are still in effect.

Recruitment of students is currently limited to the local commuting area because college students frequently cannot afford to relocate to accept job offers within the Laboratory and continue to attend school in a different commuting area. Therefore, AFRL requires the ability to expand recruitment to top universities and incentivize mobility by paying additional expenses to students accepting employment outside of their geographic area. The authority to pay relocation incentives is expanded to allow management to pay a bonus each time the co-operative education student returns to duty to the Laboratory.

1. Local Interns

Outside of the rating cycle, a manager may grant a basic pay increase to an entry-level Business Management and Professional and S&E employee (broadband I) whose contribution justifies accelerated compensation. This is similar to the authority granted to AMRDEC in 62 FR 34876, June 27, 1997.

C. Broadbanding

The use of broadbanding provides a stronger link between pay and contribution to the mission of the Laboratory than what exists in the GS system. It is simpler, less time consuming, and not as costly to maintain. In addition, such a system is more easily understood by managers and employees, is easily delegated to managers, coincides with recognized career paths, and complements the other personnel management aspects of the Demonstration Project.

In the Demonstration Project, the broadbanding system replaces the GS structure. Initially, only S&E positions in AFRL were covered. This Federal Register notice provides the authority to expand coverage of the Demonstration Project to Business Management and Professional, Technician, and Mission Support occupations. ST and SES employees are not covered.

Table 1 shows the four broadband levels in each career path, labeled I, II, III, and IV, with the exception of newly expanded broadband V for the S&E career path. The broadband levels are designed to facilitate pay progression and to allow for more competitive recruitment of quality candidates at differing rates within the appropriate broadband level(s). The S&E career path broadband level I includes the current GS-07 through GS-11; level II, GS-12 and GS/GM-13; level III, GS/GM-14; level IV, GS/GM-15; and level V, above GS/GM-15. The Business Management and Professional career path broadband level I includes the current GS-07 through GS-11; level II, GS-12 and GS/GM-13; level III, GS/GM-14; and level IV, GS/GM-15. The Mission Support career path broadband level I includes the current GS-01 through GS-04; level II, GS-05 and GS-06; level III, GS-07 and GS-08; and level IV, GS-09 and 10. The Technician career path broadband level I includes the current GS-01 through GS-04; level II, GS-05 through GS-07; level III, GS-08 through GS-10; and level IV, GS-11 and 12. Comparison to the GS grades was useful in setting the upper and lower dollar limits of the broadband; however, once employees are moved into the Demonstration Project, GS grades and steps no longer apply.

TABLE 1. BROADBANDING STRUCTURE

The broadbanding plan for the S&E occupational family is being expanded to include a broadband V to provide the ability to accommodate positions having duties and responsibilities that exceed the GS-15 classification criteria. This broadband is based on the Above GS-15 Position concept found in other STRL personnel management demonstration projects that was created to solve a critical classification problem. The STRLs have positions warranting classification above GS-15 because of their technical expertise requirements including inherent supervisory and managerial responsibilities. However, these positions are not considered to be appropriately classified as ST positions because of the degree of supervision and level of managerial responsibilities. Neither are these positions appropriately classified as SES positions because of their requirement for advanced specialized scientific or engineering expertise and because the positions are not at the level of general managerial authority and impact required for an SES position.

The original Above GS-15 Position concept was to be tested for a five-year period. The number of trial positions was set at 40 with periodic reviews to determine appropriate position requirements. The Above GS-15 Position concept is currently being evaluated by DoD management for its effectiveness and continued applicability to the current STRL scientific, engineering, and technology workforce needs. The degree to which AFRL plans to participate in this concept and develop classification, compensation and performance management policy, guidance, and implementation processes will be based on the final outcome of this evaluation. Additional guidance will be included in internal AFRL issuances.

D. Classification

1. Occupational Series

The OPM occupational series scheme, which frequently provides well-recognized disciplines with which employees wish to be identified, is maintained and facilitates movement of personnel into and out of the Demonstration Project. Other series may be added to the Project as the need for new competencies emerges within the Laboratory environment.

2. Classification Factors and Descriptors

The present system of OPM classification standards is used for the identification of proper series and occupational titles of positions within the Demonstration Project. OPM grading criteria are not used as part of the Demonstration Project. Rather, the appropriate career path broadband level factor descriptors are used to determine the broadband level. These same factor descriptors are used for the annual CCS employee assessments. For classification, only broadband level I descriptors are applied for each of the factors for a broadband level I position, for example. Therefore, the factors are sorted first by level and then by factor. (The broadband level of the position is reviewed and appropriately adjusted based on a yearly assessment of the employee's level of contribution to the organization in relation to these same factor descriptors, the position's duties, and the corresponding CCS score.) Specific broadband level factor descriptors for each career path are outlined in Appendix B and may be changed in future internal AFRL issuances, as needed.

3. Classification Authority

The AFRL Laboratory Commander has delegated classification authority. This authority is delegated to the technology directors or pay pool managers, who may further delegate to not lower than one management level above the first-level supervisor of the position under review. The first-level supervisor provides classification recommendations. Personnel specialists provide on-going consultation and guidance to managers and supervisors throughout the classification process.

4. Statement of Duties and Experience

Under the Demonstration Project's classification system, the automated Statement of Duties and Experience (SDE) replaces the AF Form 1378, Civilian Personnel Position Description. The SDE includes a description of position-specific information; references the broadband level factor descriptors for the assigned broadband level and career path; and provides data element information pertinent to the position. Laboratory supervisors follow a computer assisted process to produce the SDE.

5. Skill Codes

The AF presently uses skill code sets within the Defense Civilian Personnel Data System (DCPDS) as a means to reflect duties of current positions and employees' competencies and previous experiences. Each code represents a specialization within the occupation. Specializations are those described in classification or qualification standards and those agreed upon by functional managers and personnel specialists to be important to staffing patterns and career paths. These codes may be used to refer candidates for employment with the AF; for placement of current employees into other positions; and for training consideration under competitive procedures. To facilitate the movement of personnel into, out of, and within the Demonstration Project, the AF system of skills coding continues to be used, as long as it is required by the AF. Laboratory supervisors select appropriate skill code sets to describe the work of each employee through the automated SDE classification process, as described below.

6. Classification Process

The SDE is accomplished utilizing an automated system:

(a) The supervisor identifies the organizational location, SDE number, and the employee's name. The supervisor selects the appropriate occupational series, pay plan, broadband level, and title; the level factor descriptors corresponding to the broadband level that is most commensurate with the level of contribution necessary to accomplish the duties and responsibilities of the position; the CCS job category (if applicable); the functional classification code; and the DCPDS supervisory level.

The Demonstration Project initiatives include a dual track career progression. The dual track provides the option for Demonstration Project employees to pursue either the management track or the technical/functional track. CCS is structured to allow an individual to advance within his/her career by increasing his/her contributions to the organization and is not dependent upon which track an employee pursues. The Demonstration Project system is not hierarchical, meaning a supervisor's grade is based on the contributions he/she has made to the organization, and not based on the grades of subordinate employees, as is typical under other personnel systems. Therefore, supervisors may supervise employees at the same or higher broadband level. For Business Management and Professional and S&E positions, prefixes may be added to the titles to identify the associated broadband level (i.e., Associate, Senior, and Principal). The supervisor then completes a standard statement relating to the level of certification and functional area for the Acquisition Professional Development Program (APDP) if applicable.

(b) The supervisor creates a brief description of position-specific information by typing free-form at the appropriate point. The supervisor chooses statements pertaining to physical requirements; competencies required to perform the work; and special licenses or certifications needed (other than APDP). Based on the supervisory level of the position, the system produces mandatory statements pertaining to affirmative employment, safety, and security programs.

(c) The supervisor selects up to three AF skill code sets (as long as used within the AF) appropriate to the position, in addition to other position data, such as position sensitivity, Fair Labor Standards Act (FLSA) status, drug testing requirements, etc. These data elements are maintained as a separate page of the SDE (i.e., an addendum) as this information can change frequently. By maintaining this information as an addendum, the need to create and classify a new SDE each time one of these elements must be updated is eliminated.

(d) The supervisor accomplishes the SDE with a recommended classification, then signs and dates the document. The SDE is sent to the individual in the organization with delegated classification authority for approval and classification, which is documented by that person signing and dating the SDE.

The computer assisted system incorporates definitions for the CCS job categories (if applicable), supervisory levels, occupational series as well as their corresponding skill code sets (if applicable), and the functional classification codes as appropriate. The FLSA status selection must be in accordance with OPM guidance. Management analysts and personnel specialists may advise Laboratory management as necessary.

E. Contribution-based Compensation System (CCS)

1. Overview

The purpose of the Contribution-based Compensation System is to provide an effective, efficient, and flexible method for assessing, compensating, and managing the Laboratory workforce. It is essential for the development of a highly productive workforce and to provide management, at the lowest practical level, the authority, control, and flexibility needed to achieve a quality laboratory and quality products. CCS allows for more employee involvement in the assessment process, increases communication between supervisors and employees, promotes a clear accountability of contribution, facilitates employee career progression, provides an understandable basis for basic pay changes, and delinks awards from the annual assessment process. (Funds previously allocated for performance-based awards are reserved for distribution under a separate Laboratory awards program.) The CCS process described herein applies to broadband levels I through IV. The assessment process for broadband V positions will be documented in AFRL implementing issuances.

CCS is a contribution-based assessment system that goes beyond a performance-based rating system. That is, it measures the employee's contribution to the organization's mission, the contribution level, and how well the employee performed a job. Contribution is simply defined as the measure of the demonstrated value of what an employee did in terms of accomplishing or advancing the organizational objectives and mission impact. CCS promotes proactive basic pay adjustment decisions on the basis of an individual's overall contribution to the organization.

The same factor descriptors are used for classification and for the annual CCS employee assessments. For the CCS assessment process, the descriptors are sorted first by factor and then by level as shown in Appendix C. The appropriate career path factor descriptors (as shown in Appendix C) are used by the rating official to determine the employee's actual contribution score. Each factor has four levels of increasing contribution corresponding to the four broadband levels. Employees can score within, above, or below their broadband level, for example, a broadband level II employee could score in the broadband level I, III, or IV range. Therefore, for the CCS process, descriptors for all four levels of the career path factors are presented to better assist the supervisor with the employee assessment.

The annual CCS assessment scoring process (section III, E.3.) begins with employee input, which provides an opportunity to state the perceived accomplishments and level of contribution. Scores have a direct relationship with basic pay; therefore, the significance of an employee's actual score is not known until it is compared to his/her expected score. An employee's basic pay determines an expected score when plotted on the appropriate career path Standard Pay Line (SPL) (section III, E.2.). For instance, a Mission Support employee with a basic pay of $30,117 in 2009 would have an expected score of 2.25, while a Business Management and Professional employee with a basic pay of $69,738 would have the same expected score. The comparison between expected score and actual score provides an indication of equitable compensation, undercompensation, or overcompensation. (Typically, employees who are overcompensated are not meeting contribution expectations and may be placed on a Contribution Improvement Plan (CIP), which is described in further detail in section III, F.) Broadband levels in each career path have the same expected score range, as depicted in Table 2 below which also includes the basic pay ranges for each broadband level. As the general basic pay rates increase annually, the minimum and maximum basic pay rates of broadband levels I through IV for each career path are adjusted accordingly. Individual employees receive basic pay increases based on their assessments under the Contribution-based Compensation System. There are no changes to title 5, U.S.C., regarding locality pay under the Demonstration Project.

BILLING CODE 5001-06-C

The broadbanding plan for the S&E occupational family is being expanded to include a broadband V to provide the ability to accommodate positions having duties and responsibilities that exceed the GS-15 classification criteria. This broadband is based on the Above GS-15 Position concept found in other STRL personnel management demonstration projects that was created to solve a critical classification problem. The STRLs have positions warranting classification above GS-15 because of their technical expertise requirements including inherent supervisory and managerial responsibilities. However, these positions are not considered to be appropriately classified as ST positions because of the degree of supervision and level of managerial responsibilities. Neither are these positions appropriately classified as SES positions because of their requirement for advanced specialized scientific or engineering expertise and because the positions are not at the level of general managerial authority and impact required for an SES position.

The original Above GS-15 Position concept was to be tested for a five-year period. The number of trial positions was set at 40 with periodic reviews to determine appropriate position requirements. The Above GS-15 Position concept is currently being evaluated by DoD management for its effectiveness and continued applicability to the current STRL scientific, engineering, and technology workforce needs. The degree to which AFRL plans to participate in this concept and develop classification, compensation and performance management policy, guidance, and implementation processes will be based on the final outcome of this evaluation. Additional guidance will be included in internal AFRL issuances.

D. Classification

1. Occupational Series

The OPM occupational series scheme, which frequently provides well-recognized disciplines with which employees wish to be identified, is maintained and facilitates movement of personnel into and out of the Demonstration Project. Other series may be added to the Project as the need for new competencies emerges within the Laboratory environment.

2. Classification Factors and Descriptors

The present system of OPM classification standards is used for the identification of proper series and occupational titles of positions within the Demonstration Project. OPM grading criteria are not used as part of the Demonstration Project. Rather, the appropriate career path broadband level factor descriptors are used to determine the broadband level. These same factor descriptors are used for the annual CCS employee assessments. For classification, only broadband level I descriptors are applied for each of the factors for a broadband level I position, for example. Therefore, the factors are sorted first by level and then by factor. (The broadband level of the position is reviewed and appropriately adjusted based on a yearly assessment of the employee's level of contribution to the organization in relation to these same factor descriptors, the position's duties, and the corresponding CCS score.) Specific broadband level factor descriptors for each career path are outlined in Appendix B and may be changed in future internal AFRL issuances, as needed.

3. Classification Authority

The AFRL Laboratory Commander has delegated classification authority. This authority is delegated to the technology directors or pay pool managers, who may further delegate to not lower than one management level above the first-level supervisor of the position under review. The first-level supervisor provides classification recommendations. Personnel specialists provide on-going consultation and guidance to managers and supervisors throughout the classification process.

4. Statement of Duties and Experience

Under the Demonstration Project's classification system, the automated Statement of Duties and Experience (SDE) replaces the AF Form 1378, Civilian Personnel Position Description. The SDE includes a description of position-specific information; references the broadband level factor descriptors for the assigned broadband level and career path; and provides data element information pertinent to the position. Laboratory supervisors follow a computer assisted process to produce the SDE.

5. Skill Codes

The AF presently uses skill code sets within the Defense Civilian Personnel Data System (DCPDS) as a means to reflect duties of current positions and employees' competencies and previous experiences. Each code represents a specialization within the occupation. Specializations are those described in classification or qualification standards and those agreed upon by functional managers and personnel specialists to be important to staffing patterns and career paths. These codes may be used to refer candidates for employment with the AF; for placement of current employees into other positions; and for training consideration under competitive procedures. To facilitate the movement of personnel into, out of, and within the Demonstration Project, the AF system of skills coding continues to be used, as long as it is required by the AF. Laboratory supervisors select appropriate skill code sets to describe the work of each employee through the automated SDE classification process, as described below.

6. Classification Process

The SDE is accomplished utilizing an automated system:

(a) The supervisor identifies the organizational location, SDE number, and the employee's name. The supervisor selects the appropriate occupational series, pay plan, broadband level, and title; the level factor descriptors corresponding to the broadband level that is most commensurate with the level of contribution necessary to accomplish the duties and responsibilities of the position; the CCS job category (if applicable); the functional classification code; and the DCPDS supervisory level.

The Demonstration Project initiatives include a dual track career progression. The dual track provides the option for Demonstration Project employees to pursue either the management track or the technical/functional track. CCS is structured to allow an individual to advance within his/her career by increasing his/her contributions to the organization and is not dependent upon which track an employee pursues. The Demonstration Project system is not hierarchical, meaning a supervisor's grade is based on the contributions he/she has made to the organization, and not based on the grades of subordinate employees, as is typical under other personnel systems. Therefore, supervisors may supervise employees at the same or higher broadband level. For Business Management and Professional and S&E positions, prefixes may be added to the titles to identify the associated broadband level (i.e., Associate, Senior, and Principal). The supervisor then completes a standard statement relating to the level of certification and functional area for the Acquisition Professional Development Program (APDP) if applicable.

(b) The supervisor creates a brief description of position-specific information by typing free-form at the appropriate point. The supervisor chooses statements pertaining to physical requirements; competencies required to perform the work; and special licenses or certifications needed (other than APDP). Based on the supervisory level of the position, the system produces mandatory statements pertaining to affirmative employment, safety, and security programs.

(c) The supervisor selects up to three AF skill code sets (as long as used within the AF) appropriate to the position, in addition to other position data, such as position sensitivity, Fair Labor Standards Act (FLSA) status, drug testing requirements, etc. These data elements are maintained as a separate page of the SDE (i.e., an addendum) as this information can change frequently. By maintaining this information as an addendum, the need to create and classify a new SDE each time one of these elements must be updated is eliminated.

(d) The supervisor accomplishes the SDE with a recommended classification, then signs and dates the document. The SDE is sent to the individual in the organization with delegated classification authority for approval and classification, which is documented by that person signing and dating the SDE.

The computer assisted system incorporates definitions for the CCS job categories (if applicable), supervisory levels, occupational series as well as their corresponding skill code sets (if applicable), and the functional classification codes as appropriate. The FLSA status selection must be in accordance with OPM guidance. Management analysts and personnel specialists may advise Laboratory management as necessary.

E. Contribution-based Compensation System (CCS)

1. Overview

The purpose of the Contribution-based Compensation System is to provide an effective, efficient, and flexible method for assessing, compensating, and managing the Laboratory workforce. It is essential for the development of a highly productive workforce and to provide management, at the lowest practical level, the authority, control, and flexibility needed to achieve a quality laboratory and quality products. CCS allows for more employee involvement in the assessment process, increases communication between supervisors and employees, promotes a clear accountability of contribution, facilitates employee career progression, provides an understandable basis for basic pay changes, and delinks awards from the annual assessment process. (Funds previously allocated for performance-based awards are reserved for distribution under a separate Laboratory awards program.) The CCS process described herein applies to broadband levels I through IV. The assessment process for broadband V positions will be documented in AFRL implementing issuances.

CCS is a contribution-based assessment system that goes beyond a performance-based rating system. That is, it measures the employee's contribution to the organization's mission, the contribution level, and how well the employee performed a job. Contribution is simply defined as the measure of the demonstrated value of what an employee did in terms of accomplishing or advancing the organizational objectives and mission impact. CCS promotes proactive basic pay adjustment decisions on the basis of an individual's overall contribution to the organization.

The same factor descriptors are used for classification and for the annual CCS employee assessments. For the CCS assessment process, the descriptors are sorted first by factor and then by level as shown in Appendix C. The appropriate career path factor descriptors (as shown in Appendix C) are used by the rating official to determine the employee's actual contribution score. Each factor has four levels of increasing contribution corresponding to the four broadband levels. Employees can score within, above, or below their broadband level, for example, a broadband level II employee could score in the broadband level I, III, or IV range. Therefore, for the CCS process, descriptors for all four levels of the career path factors are presented to better assist the supervisor with the employee assessment.

The annual CCS assessment scoring process (section III, E.3.) begins with employee input, which provides an opportunity to state the perceived accomplishments and level of contribution. Scores have a direct relationship with basic pay; therefore, the significance of an employee's actual score is not known until it is compared to his/her expected score. An employee's basic pay determines an expected score when plotted on the appropriate career path Standard Pay Line (SPL) (section III, E.2.). For instance, a Mission Support employee with a basic pay of $30,117 in 2009 would have an expected score of 2.25, while a Business Management and Professional employee with a basic pay of $69,738 would have the same expected score. The comparison between expected score and actual score provides an indication of equitable compensation, undercompensation, or overcompensation. (Typically, employees who are overcompensated are not meeting contribution expectations and may be placed on a Contribution Improvement Plan (CIP), which is described in further detail in section III, F.) Broadband levels in each career path have the same expected score range, as depicted in Table 2 below which also includes the basic pay ranges for each broadband level. As the general basic pay rates increase annually, the minimum and maximum basic pay rates of broadband levels I through IV for each career path are adjusted accordingly. Individual employees receive basic pay increases based on their assessments under the Contribution-based Compensation System. There are no changes to title 5, U.S.C., regarding locality pay under the Demonstration Project.

BILLING CODE 5001-06-C

2. Standard Pay Line (SPL)

A mathematical relationship between assessed contribution and basic pay compensation was defined in order to create the SPLs for each career path used in CCS. Initially, various mathematical relationships between each CCS score and the appropriate corresponding basic pay rate were examined and analyzed given the following systemic constraints. First, CCS necessitates that the relationship be described by a single equation that yields a reasonable correlation between basic pay rates in the broadband levels and those of the corresponding GS grade(s). Second, neither the equation nor its derivative(s) can exhibit singularities within or between levels. That is, the equation must be continuous, smooth, and well-defined across the broadband levels within each career path. Third, the relationship may not yield disincentives or inequities between employees or groups of employees; it must demonstrate equitable (i.e., consistent) growth at each CCS score. Mathematical analysis demonstrated that the most reasonable relationship is a straight line—“the SPL.”

Derivation of the initial S&E career path SPL was based on distributing the GS grades and steps of the incoming population across the corresponding broadband levels and plotting these against the GS basic pay rates. Although the data are not continuous, there is a linear trend. Each of these data points was weighted by the actual calendar year 1995 (CY95) population data for the Demonstration Laboratory. Using a “least squares error fit” analysis, the best straight line fit to this weighted data was computed.

Specifically, the equation of the original S&E SPL for CY95 was: BASIC PAY = $13,572 + ($15,415 × CCS SCORE). The SPL for CY96 was calculated from the SPL for CY95 plus the general pay increase (“G”) given to GS employees in January 1996. The equation for the CY96 SPL was: BASIC PAY = $13,843 + ($15,723 × CCS SCORE). The CY97 SPL was the CY96 SPL increased by the “G” for CY97.

Currently, the equation for the 2009 S&E SPL is BASIC PAY = $19,613 + ($22,278 × CCS SCORE). Figure 1 provides a pictorial representation of the DR 2009 SPL. Since the Business Management and Professional career path has the same banding structure as the existing S&E career path, the same SPL equation is used for that career path as shown in Figure 2.

For the other two career paths, Technician and Mission Support, a different approach was used to design the SPL. In order to encompass all employees across the career path, a straight-line slope-intercept equation was utilized. A CCS score of 1.0 was set as equivalent to the basic pay of a step one of the lowest GS grade in the career path, while a CCS score of 4.9 is equivalent to the basic pay of step ten of the highest GS grade. A straight line was then drawn between these two points, creating the SPL. Consequently, the 2009 Mission Support SPL is BASIC PAY = $6,862 + ($10,678 × CCS SCORE) and the 2009 Technician SPL is BASIC PAY = $2,034 + ($15,506 × CCS SCORE) as shown in Figures 3 and 4.

For each of the career paths, the lines were extended to 0.75 and 5.25, in order to provide a broader range of basic pay rates (i.e., an overall score of 0.75 corresponds with the minimum basic pay of the career path and an overall score of 5.25 corresponds with the maximum basic pay of the career path). Rails were then constructed at + and—0.3 CCS around the SPL for all career paths. The area encompassed by the rails denotes the acceptable contribution and compensation relationship.

Each SPL, and therefore, the basic pay rates, are increased by the amount of the general basic pay increase authorized each year. Continuing this calculation of the SPL maintains the same relationships between the basic GS pay scale and the SPL in the Demonstration Project. Locality pay is not included in the SPLs. Locality pay is added to the basic pay rate based upon each employee's official duty station.

3. The CCS Assessment Process

The rating official is the first-level supervisor of record for at least 90 days during the rating cycle. If the current immediate supervisor has been in place for less than 90 days during the rating cycle, the second-level supervisor serves as the initial rating official. If the second-level supervisor is in place for less than 90 days during the rating cycle, the next higher level supervisor in the employee's rating chain conducts the assessment.

The annual assessment cycle begins on October 1 and ends on September 30 of the following year. At the beginning of the annual assessment period, the broadband level factor descriptors are provided to employees so that they know the basis on which their contribution is assessed.

A midyear review, in the March to April timeframe, is conducted for employees. At this time, the employee's professional qualities, competences, developmental needs, and mission contribution are discussed, as is future development and career opportunities. Additionally, supervisors are provided feedback on their supervisory qualities and skills. To highlight its importance, all feedback sessions are certified as completed by the rating official conducting the feedback session. While one documented formal midyear feedback is required, supervisors can/should conduct informal feedback sessions throughout the rating period. The preferable method for all feedback sessions is face-to-face. (Dealing with inadequate employee contribution is addressed in section III, F.)

At the end of the annual assessment period, employees summarize their contributions in each factor for their rating official. Employee written self-assessments are highly encouraged to ensure that all contributions accomplished during the rating cycle are identified to management for consideration. The rating official determines preliminary CCS scores using the employee's input and the rating official's assessment of the overall contribution to the Laboratory mission based on the appropriate broadband level factor descriptors. For each factor, the rating official places the employee's contribution at a particular broadband level (I, II, III, or IV) and general range (i.e., high, medium, or low) to arrive at the preliminary score. (Inadequate employee contribution is addressed in section III, F.)

The rating officials (e.g., branch chiefs) and their next level supervisor (e.g., the respective division chief) then meet as a group (e.g., first-level Meeting of Managers (MoM)) to review and discuss all proposed employee assessments and preliminary CCS scores. Giving authority to the group of managers to determine scores ensures that contributions are assessed and measured similarly for all employees. During the MoMs, the preliminary factor scores are further refined into decimal scores. For example, if the contribution level for a factor is at the lowest level of level I, a factor score of 1.0 is assigned. Higher levels of contribution are assigned factor scores increasing in 0.1 increments up to 4.9. A factor score of 0.0 can be assigned if the employee does not demonstrate a minimum level I contribution. Likewise, a factor score of 5.9 can be assigned if the employee demonstrates a contribution that exceeds the broadband level IV descriptor. Rating officials must document justification for each proposed factor score.

Factor scores are then averaged to give an overall CCS score. Each broadband range is defined for overall CCS scores from 0.75 to 5.25 as shown in Table 2. The maximum overall CCS score for broadband level IV is set at 5.25, to be consistent with the maximum overall CCS scores for other broadband levels (4.25 for broadband level III, 3.25 for broadband level II, and 2.25 for broadband level I). Therefore, when the average of CCS factor scores exceeds 5.25, the overall CCS score is set to 5.25 with the individual identified to upper management as having exceeded the maximum contribution defined by the broadband. The maximum compensation for each broadband is the basic pay corresponding with an n.25 overall CCS score (i.e., 2.25, 3.25, 4.25, and 5.25).

Once the scores have been finalized, the pay pool manager approves the scores for the entire pay pool. Pay pool managers have the ability to look across the entire pay pool and may address anomalies through the appropriate management chain. However, CCS scores cannot be changed by managerial levels above the original group of supervisors that participated in the respective lowest level MoM. Contribution feedback and any training and/or career development needs are then discussed with the individual employees.

If, on October 1, the employee has served under CCS for less than 90 days, the rating official waits for the subsequent annual cycle to assess the employee. The employee is considered “presumptive due to time” and is assigned a score at the intersection of their basic pay and the SPL. Periods of approved, paid leave are counted toward the 90-day time period.

When an employee cannot be evaluated readily by the normal CCS assessment process due to special circumstances that take the individual away from normal duties or duty station (e.g., long-term full-time training, reserve military deployments, extended sick leave, leave without pay, etc.), the rating official documents the rating as “presumptive due to circumstance” in the CCS software. The rating official then assesses the employee using one of the following options:

(a) Recertify the employee's last contribution assessment; or

(b) assign a score at the intersection of the employee's basic pay and the SPL.

Basic pay adjustments, i.e., decisions to give or withhold basic pay increases, are based on the relationship between the employee's actual CCS contribution score and the employee's current basic pay (as discussed in section III, E.5). Decisions for broadband movement (section III, E.6.) are also based on this relationship. Final pay determinations and broadband level changes are made by the pay pool manager.

4. Pay Pools

Pay pool structure is under the authority of the Laboratory Commander/Executive Director, with each pay pool manager at the SES or full colonel level. The following minimal guidelines apply: (a) A pay pool is typically based on the organizational structure/functional specialty and should include a range of basic pay rates and contribution levels; (b) a pay pool must be large enough to constitute a reasonable statistical sample, i.e., 35 or more employees; (c) a pay pool must be large enough to encompass a second level of supervision since the CCS process uses a group of supervisors in the pay pool to determine assessments and recommend basic pay adjustments; (d) the pay pool manager holds yearly pay adjustment authority; and (e) neither the pay pool manager nor supervisors within the pay pool recommend or set their own individual pay.

The amount of money available for basic pay increases within a pay pool is determined by the general increase (“G”) and an incentive amount (“I”) drawn from money that would have been available for step increases and career ladder promotions, previously utilized under the General Schedule. The incentive amount is set by the AFRL Corporate Board and is considered adjustable to ensure cost discipline over the life of the Demonstration Project. The dollars derived from “G” and “I” included in the pay pool are computed based on the basic pay of eligible employees in the pay pool as of September 30 of each year. Pay pool dollars are not transferable between pay pools.

5. Basic Pay Adjustment Guidelines

The maximum compensation is limited to GS-15, step 10, basic pay. Any employee who's basic pay would exceed a GS-15, step 10, based on his or her overall CCS score, will be identified to upper management as having exceeded the maximum allowable compensation and will be paid a bonus to cover any difference between the GS-15, step 10, basic pay and the basic pay associated with his or her overall CCS score. Locality pay is added based upon each Demonstration Project employee's official duty station.

Employees' annual contributions are determined by the CCS process described in section E.3. Their CCS scores are then plotted on the appropriate SPL graph based on their current basic pay as shown in Figure 5. The position of those points in relation to the SPL provides a relative measure (Delta Y) of the degree of overcompensation or undercompensation for each employee. This permits all employees within a pay pool to be rank-ordered by ΔY, from the most undercompensated employee to the most overcompensated.

BILLING CODE: 500-06-P

In general, those employees who fall below the SPL (indicating undercompensation, for example, employee X in Figure 5) should expect to receive greater basic pay increases than those who fall above the line (indicating overcompensation, for example, employee Z). A CCS assessment that falls on either rail is considered to be within the rails. Over time, employees will migrate closer to the standard pay line. The following provides more specific guidelines: (a) Those who fall above the upper rail (for example, employee Z) are given an increase ranging from zero to a maximum of “G;” (b) those who fall within the rails (for example, employee Y) are given a minimum of “G;” and (c) those who fall below the lower rail (for example, employee X) are given at least their basic pay times “G” and “I.” If the pay increase results in a broadband movement for employees who do not meet APDP requirements that portion of the increase that takes them beyond the top of the broadband is withheld. The pay pool manager may give a bonus to an employee as compensation, in whole or part, to cover any difference between the employee's current basic pay and the basic pay associated with their new overall CCS score. This may be appropriate in a situation when the employee's continued contribution at this level is uncertain. Bonus criteria will be documented in AFRL implementing issuances.

Each pay pool manager sets the necessary guidelines for the gradation of pay adjustments in the pay pool within these general rules: (1) Final decisions are standard and consistent within the pay pool; (2) are fair and equitable to all stakeholders; (3) maintain cost discipline over the Project life; and (4) be subject to review.

6. Broadband Level Movements

Under the Demonstration Project, non-competitive broadband movement may occur once a year during the CCS process, if certain conditions are met. A key concept of the Demonstration Project is that career growth may be accomplished by movement through the broadband levels by significantly increasing levels of employee contribution toward the AFRL mission. An employee's contribution is a reflection of his/her CCS score, which is derived from the factor descriptors. Because the factor descriptors are written at progressively higher levels of work and are the same factor descriptors used in the classification process, higher scores reflect that the employee's contribution is equivalent to the level associated with the score he/she is awarded. The broadband level of a position may be increased when an employee consistently contributes at the higher broadband level through increased expertise and by performing expanded duties and responsibilities commensurate with the higher broadband level factor descriptors. If an employee's contributions impact and broaden the scope, nature, intent and expectations of the position and are reflective of higher level factor descriptors, the classification of the position is updated accordingly. This form of movement through broadband levels is referred to as a seamless broadband movement and can only happen within the same career path; employees cannot cross over career paths through this process. The criteria is similar to that used in an accretion of duties scenario and must be met for an employee to move seamlessly to the higher broadband level and for this movement to occur, that is: (1) The employee's current position is absorbed into the reclassified position, with the employee continuing to perform the same basic duties and responsibilities (although at the higher level); and (2) the employee's current position is reclassified to a higher broadband level as a result of additional higher level duties and responsibilities. No additional broadband movement is guaranteed since there are no positions targeted to a higher broadband level within this system. It may take a number of years for contribution levels to increase to the extent a broadband level move is warranted, and not all employees achieve the increased contribution levels required for such moves.

The simplified classification and broadbanding structure allows management to assign duties consistent with the broadband level of a position without the necessity to process a personnel action and provides managers authority to move employees between positions within their current broadband level, at any time during the year. However, management also has the option to fill vacancies throughout the year using various staffing avenues, to include details, reassignments, or competitive selection procedures (as applicable and/or required) for competitive promotions or temporary promotions (typically used for filling supervisory positions). Employees may be considered for vacancies at higher broadband level positions consistent with the Demonstration Project competitive selection procedures.

Any resulting changes in broadband levels that occur through the CCS process are not accompanied by pay increases normally associated with formal promotion actions, but rather, they are processed and documented with a pay adjustment action to include appropriate changes/remarks (e.g., change in title (if appropriate), change in broadband level, and accomplishment of a new SDE (section III, D.6.). The terms “promotion” and “demotion” are not used in connection with the CCS process.

The banding structure creates an overlap between adjacent broadband levels which facilitates broadband movement. Specifically, the basic pay overlap between two levels is defined by the basic pay rates at—to + 0.25 CCS around two whole number scores. For instance, the minimum basic pay for a broadband level I is that basic pay from the SPL corresponding to a CCS score of 0.75. And the maximum basic pay for broadband level I is that basic pay from the SPL corresponding to a CCS score of 2.25. The minimum basic pay for a broadband level II is that basic pay from the SPL corresponding to a CCS score of 1.75. And the maximum basic pay for broadband level II is that basic pay from the SPL corresponding to a CCS score of 3.25. Likewise, the minimum basic pay for level III would be the basic pay from the SPL corresponding to a CCS score of 2.75 and so on for the different broadband levels. This definition provides a basic pay overlap between broadband levels that is consistent with and similar to basic pay overlaps in the GS schedule.

Figure 6 shows the basic pay overlap areas between broadband contribution levels. These basic pay overlap areas are divided into three zones designated as CL (consideration for change to lower level), CH (consideration for change to higher level), and E (eligible for change to higher or lower level). All the E zones have the same width, 0.5 CCS, and height. The E zone is described as the box formed by the intersection of the integer + and−0.25 CCS lines and the SPL.

The E zones serve to stabilize the movement between adjacent broadband levels. This allows for annual fluctuations in contribution scores for people near the top or bottom of a level, without creating the need for repeated broadband level changes. An employee whose contribution score falls within an E zone is eligible for a change in broadband level but one should not be given unless the supervisor has a compelling reason to request the change to increase or reduce the employee's level.

Those who consistently achieve increased contribution assessments progress through their broadband level and find their basic pay climbing into the corresponding CH zone. Once the employee's CCS score is demonstrated to be consistently within the CH zone, a pay pool determination should be made as to whether the criteria for movement to a higher broadband level is justified unless the supervisor has a compelling reason not to request the change (e.g., temporary assignment; not a continuing assignment; unique circumstances for specific rating period, etc.). Conversely, regression through the broadband levels works the same way in the opposite direction. Those who consistently receive decreasing contribution assessments regress through their broadband level and do not receive any basic pay adjustments greater than “G.” They will find that the CL zone at the bottom of their current broadband level eventually aligns with their current basic pay. If the employee's CCS score is demonstrated to be consistently within the CL zone, a pay pool determination should be made as to whether the employee should be moved to the lower broadband level unless the supervisor has a compelling reason not to request the change (e.g., temporary assignment; not a continuing assignment; unique circumstances for specific rating period; etc.). If an employee moves completely above the CH zone or below the CL zone, the employee is considered to be in the mandatory zone and is automatically moved in broadband level, as long as APDP requirements are met (if applicable). If APDP requirements are not met, that portion of the basic pay increase that takes them beyond the top of the broadband is withheld.

7. Voluntary Pay Reduction and Pay Raise Declination

Under CCS, an employee may voluntarily request a pay reduction or a voluntary declination of a pay raise which would effectively place an overcompensated employee's pay closer to or below the SPL. Since an objective of CCS is to properly compensate employees for their contribution, the granting of such requests is consistent with this goal. Under normal circumstances, all employees should be encouraged to advance their careers through increasing contribution rather than being undercompensated at a fixed level of contribution.

To handle these special circumstances, employees must submit a request for voluntary pay reduction or pay raise declination during the 30-day period immediately following the annual payout or a CCS grievance decision and document the reasons for the request. Management must properly document all decisions to approve or disapprove such requests. This type of basic pay change is not considered to be an adverse personnel action.

8. CCS Grievance Procedures

An employee may grieve the assessment received under CCS, using the administrative grievance system. Non-bargaining unit employees, and bargaining unit employees covered by a negotiated grievance procedure which does not permit grievances over performance ratings, must file assessment grievances under administrative grievance procedures. Bargaining unit employees, whose negotiated grievance procedures cover performance rating grievances, must file assessment grievances under those negotiated procedures. Additional CCS grievance information to include the possible use of Alternative Dispute Resolution is documented in AFRL implementing issuances.

F. Dealing With Inadequate Contribution

CCS is a contribution-based assessment system that goes beyond a performance-based rating system. Contribution is measured against factors, each having four levels of increasing contribution corresponding to the four broadband levels. Employees are plotted against the SPL based on their score and current basic pay, which determines the amount of overcompensation or undercompensation. When an employee's contribution plots in the area above the upper rail of the SPL (section III, E.3.), the employee is overcompensated for his/her level of contribution and is considered to be in the Automatic Attention Zone (AAZ).

This section addresses reduction in pay or removal of Demonstration Project employees based solely on inadequate contribution, as determined by the amount of overcompensation. The following procedures are similar to and replace those established in 5 CFR part 432 pertaining to performance-based reduction in grade and removal actions. Adverse action procedures under 5 CFR part 752 remain unchanged.

The immediate supervisor has two options when an employee plots in the AAZ. The first option is to write a memorandum for record documenting the employee's inadequate contributions. The supervisor states in writing the specifics on where the employee failed to contribute at an adequate level and provide rationale for not taking a formal action. Examples where this might be used is when an employee's contribution plots just above the upper rail of the SPL or extenuating circumstances exist that may have contributed to the employee's overall score and are expected to be temporary in nature. A copy of this memorandum is provided to the employee and to higher levels of management. The second option is to take formal action by placing the employee on a Contribution Improvement Plan (CIP), providing the employee an opportunity to improve. The CIP must inform the employee, in writing, that unless the contribution increases and is sustained at a higher level, the employee may be reduced in pay or removed.

The supervisor will afford the employee a reasonable opportunity (a minimum of 60 days) to demonstrate increased contribution commensurate with the duties and responsibilities of the employee's position. As part of the employee's opportunity to demonstrate increased contribution, management will offer appropriate assistance to the employee.

Once an employee has been afforded a reasonable opportunity to demonstrate increased contribution, but fails to do so, management has sole and exclusive discretion to initiate reduction in pay or removal. If the employee's contribution increases to a higher level and is again determined to deteriorate in any area within two years from the beginning of the opportunity period, management has sole and exclusive discretion to initiate reduction in pay or removal with no additional opportunity to improve. If an employee has contributed appropriately for two years from the beginning of an opportunity period and the employee's overall contribution once again declines, management will afford the employee an additional opportunity to demonstrate increased contribution before determining whether or not to propose a reduction in pay or removal.

An employee whose reduction in pay or removal is proposed is entitled to at least a 30-day advance notice of the proposed action that identifies specific instances of inadequate contribution by the employee on whom the action is based. Management may extend this advance notice for a period not to exceed an additional 30 days. Management will afford the employee a reasonable time to answer the notice of proposed action orally and/or in writing.

A decision to reduce pay or remove an employee for inadequate contribution may only be based on those instances of inadequate contribution that occurred during the two-year period ending on the date of issuance of the notice of proposed action. Management will issue written notice of its decision to the employee at or before the time the action will be effective. Such notice will specify the instances of inadequate contribution by the employee on which the action is based and will inform the employee of any applicable appeal or grievance rights as specified in 5 CFR 432.106.

Management will preserve all relevant documentation concerning a reduction in pay or removal which is based on inadequate contribution and make it available for review by the affected employee or designated representative. At a minimum, the records will consist of a copy of the notice of proposed action; the written answer of the employee or a summary thereof when the employee makes an oral reply; and the written notice of decision and the reasons therefore, along with any supporting material including documentation regarding the opportunity afforded the employee to demonstrate increased contribution.

When a reduction in pay or removal action is not taken because of contribution improvement by the employee during the notice period and the employee's contribution continues to be deemed adequate for two years from the date of the advanced written notice, any entry or other notation of the proposed action will be removed from management records relating to the employee, in accordance with applicable directives.

These provisions also apply to an employee whose contribution deteriorates during the year. In such instances, the group of supervisors who meet during the CCS assessment process may reconvene any time during the year to review an employee whose contribution is not appropriate for his or her basic pay and decide if the employee should be placed on a CIP.

G. Voluntary Emeritus Corps

Under the Demonstration Project, the AFRL Laboratory Commander/Executive Director and pay pool managers have the authority to offer retired or separated S&E, Business Management and Professional, Mission Support, and Technical employees voluntary assignments in the Laboratory. The Voluntary Emeritus Corps ensures continued quality research, mentoring, support, and program management while reducing the overall basic pay line by allowing higher paid employees to accept retirement incentives with the opportunity to retain a presence in the laboratory community. The program is beneficial during manpower reductions as senior personnel accept retirement and return to provide valuable on-the-job training or mentoring to less experienced employees. (This authority is similar in nature to that utilized by S&Es in AFRL and described in the CERDEC demonstration project plan, 66 FR 54871, October 30, 2001.)

This authority includes employees who have retired or separated from Federal service. Voluntary Emeritus Corps assignments are not considered employment by the Federal government (except for purposes of on-the-job injury compensation). Thus, such assignments do not affect an employee's entitlement to buyouts or severance payments based on an earlier separation from Federal service.

To be accepted into the Emeritus Corps, a volunteer must be recommended by a manager within the Laboratory. Everyone who applies is not automatically entitled to a voluntary assignment. The Laboratory Commander/Executive Director and/or pay pool manager must clearly document the decision process for each applicant (whether accepted or rejected) and retain the documentation throughout the assignment. Documentation of rejections will be maintained according to applicable records management requirements.

To encourage participation, the volunteer's Federal retirement pay (whether military or civilian) will not be affected while serving in a voluntary capacity.

Volunteers are not permitted to monitor contracts on behalf of the government or to participate on any contracts or solicitations where a conflict of interest exists.

An agreement is established between the volunteer, the pay pool manager, and the servicing Civilian Personnel Office. The agreement is reviewed by the local Staff Judge Advocate representative responsible for ethics determinations under the DoD Joint Ethics Regulation, DoD Directive 5500.7-R. Volunteers are not permitted to report for duty prior to finalization of the agreement, which will include, as a minimum:

(a) A statement that the voluntary assignment does not constitute an appointment in the Civil Service and is without compensation;

(b) the volunteer waives any and all claims against the Government because of the voluntary assignment except for purposes of on-the-job injury compensation as provided in 5 U.S.C. 8101(1)(B);

(c) volunteer's work schedule;

(d) length of agreement (defined by length of project or time defined by weeks, months, or years);

(e) support provided by the Laboratory (travel, administrative, office space, supplies);

(f) a one page SDE;

(g) a provision that states no additional time will be added to a volunteer's service credit for such purposes as retirement, severance pay, and leave as a result of being a member of the Voluntary Emeritus Corps;

(h) a provision allowing either party to void the agreement with ten working days written notice; and

(i) the level of security access required (any security clearance required by the assignment is managed by the Laboratory while the volunteer is a member of the Emeritus Corps).

H. Reduction-in-Force (RIF) Procedures

The competitive area may be determined by career paths (pay plans), lines of business, product lines, organizational units, funding lines, occupational series, functional area, technology directorate, and/or geographical location, or a combination of these elements, and must include all Demonstration Project employees within the defined competitive area. The RIF system has a single round of competition to replace the current two-round process. Once the position to be abolished has been identified, the incumbent of that position may displace another employee when the incumbent has a higher retention standing and is fully qualified for the position occupied by the employee with a lower standing.

Retention standing is based on tenure, veterans' preference, overall CCS score, and length of service. There is no augmented service credit based on contribution scores (i.e., there are no additional years of service added to service computation dates based on contribution scores). Probationary and trial period employees are in tenure group I for RIF purposes.

Displacement is limited to one broadband level below the employee's present level within the career path. Broadband level I employees can displace within their current broadband level. A preference eligible employee with a compensable service connected disability of 30 percent or more may displace up to two broadband levels below the employee's present level within the career path. A broadband level I preference eligible employee (with a compensable service connected disability of 30 percent or more) can displace within their current broadband. Employees bumped to lower broadband levels maintain their existing basic pay for the remainder of the current CCS cycle. Any future basic pay increases are dependent upon CCS assessments.

An employee whose current overall CCS scores places him/her in the area above the upper rail, may only displace an employee in the same zone during that same period. The same “undue disruption” standard currently utilized serves as the criteria to determine if an employee is fully qualified. The displaced individual may similarly displace another employee. If/When there is no position in which an employee can be placed by this process or assigned to a vacant position, that employee will be separated.

After completion of the first rating cycle, employees are provided credit for contribution based on their actual OCS. After completion of the second rating cycle, employees are provided contribution credit based on the average of their last two contribution scores. After completion of the third rating cycle, employees are provided contribution credit based on the average of their last three contribution scores. The expected CCS score is used for employees who have not yet received a CCS assessment.

IV. Training

An extensive training program is currently in place for participants in the Demonstration Project. Supervisory training is required for all new supervisors of Demonstration Project employees, to include comprehensive CCS training, providing effective CCS feedback training, and CCS software training. Additional training is planned for and will be made available to support personnel and every employee who converts into the Demonstration Project. Training will adequately describe the features as they pertain to each career path and will address employee concerns to ensure that everyone has a comprehensive understanding of the program. Training requirements vary from an overview of the Demonstration Project, to a more detailed package for the employees now entering the Demonstration Project, as well as very specific instructions for both civilian and military supervisors, managers, and others who provide personnel and payroll support.

V. Conversion

A. Conversion to the Demonstration Project

Initial entry into the Demonstration Project for covered employees is accomplished through a full employee protection approach that ensures each employee an initial place in the appropriate broadband level without loss of pay, using an 890 Nature of Action Code. Employees are converted into the career path and broadband level which includes their permanent GS/GM grade and occupational series of record, unless there are extenuating circumstances which require individual attention, such as special pay rates or pay retention. Adverse action provisions do not apply to the conversion process as there is no change in total adjusted pay.

Under the GS pay structure, employees progress through their assigned grade in step increments. In the Demonstration Project, basic pay progression through the levels depends on contribution to the mission and there are no scheduled within-grade increases (WGIs). Rules governing WGI under the current AF performance plan will continue in effect until the implementation date. Adjustments to the employees' basic pay for WGI equity will be computed effective the date of conversion. WGI equity is acknowledged by increasing basic pay rates by a prorated share based upon the number of days an employee has completed towards the next higher step. Employees at step ten on the date of implementation are not eligible for WGI equity adjustments since they are already at the top of the step scale. As under the GS system, supervisors are able to withhold these partial step increases if the employee's performance has fallen below fully successful.

All employees are eligible for future locality pay increases of the geographical areas of their official duty station. Special Salary Rates are not applicable to Demonstration Project employees. Employees on special salary rates at the time of conversion receive a new basic pay rate which is computed by dividing their highest adjusted basic pay (i.e., special pay rate or, if higher, the locality rate) by the computation of one plus the locality pay factor for their area. Multiply the new basic pay rate by the locality pay factor and add the result to the new basic pay rate to obtain the adjusted basic pay, which is equal to the adjusted basic pay prior to conversion.

Grade and pay retention entitlements are eliminated. At the time of conversion, an employee on grade retention will be converted to the career path and broadband level based on the assigned permanent position of record, not the retained grade. The employee's basic pay and adjusted basic pay while on grade retention status will be used in setting appropriate pay upon conversion and in determining the amount of any WGI buy-in. An employee's adjusted basic pay will not be reduced upon conversion.

Employees serving under regular term appointments at the time of conversion to the Demonstration Project will be converted to the new modified term appointments provided they were hired for their current positions under competitive procedures.

In order to ensure full employee compensation toward previous performance, AFRL may conduct a GS annual or close-out appraisal which may include a performance award. If an annual CCS assessment is not possible due to the conversion date (i.e., less than a 90-day evaluation period), employees will be entitled to the general pay increase typically effective in January.

B. Conversion to Another Personnel System

1. Demonstration Project Termination

(a) In the event the Project ends, a conversion back to the former or to an applicable Federal Civil Service system may be required. The grade of employees' positions in the new system will be based upon the position classification criteria of the gaining system. Employees, when converted to their positions classified under the new system, may be eligible for pay retention under 5 CFR part 536, if applicable.

(b) However, an employee will not be provided a lower grade than the grade held by the employee immediately preceding a conversion, lateral reassignment, or lateral transfer into the project, unless since that time the employee has either undergone a reduction in band or a reduction within the same pay band due to unacceptable performance.

2. Employees Voluntarily Leave the Demonstration Project

If a Demonstration Project employee accepts a position in the GS or another pay system, the following procedures will be used to convert the employee's broadband level to a GS-equivalent grade and the employee's Demonstration Project basic pay to the GS-equivalent rate of pay for pay setting purposes. The equivalent GS grade and GS rate of pay must be determined before movement out of the Demonstration Project and any accompanying geographic movement, promotion, or other simultaneous action.

An employee in a broadband level corresponding to a single GS grade is provided that grade as the GS-equivalent grade. An employee in a broadband corresponding to two or more grades is determined to have a GS-equivalent grade corresponding to one of those grades according to the following rules:

(a) The employee's adjusted base pay under the demonstration project (including any locality payment or staffing supplement) is compared with step 1 rates in the highest applicable GS rate range. For this purpose, a GS rate range includes a rate in:

i. The GS base schedule;

ii. The locality rate schedule for the locality pay area in which the position is located; or

iii. The appropriate special rate schedule for the employee's occupational series, as applicable.

If The series is a two-grade interval series, only odd-numbered grades are considered below GS-11.

(b) For lateral reassignments, the equivalent GS grade and rate will become the employee's converted GS grade and rate after leaving the Demonstration Project (before any other action).

(c) For transfers, promotions, and other actions, the converted GS grade and rate will be used in applying any GS pay administration rules applicable in connection with the employee's movement out of the Project (e.g., promotion rules, highest previous rate rules, and/or pay retention rules), as if the GS converted grade and rate were actually in effect immediately before the employee left the Demonstration Project.

VI. Project Duration and Changes

Public Law 103-337 removed any mandatory expiration date for this Demonstration Project. The Project evaluation plan adequately addresses how each intervention is comprehensively evaluated.

Many aspects of a Demonstration Project are experimental. Minor modifications may be made from time to time as experience is gained, results are analyzed, and conclusions are reached on how the system is working. Flexibilities published in this Federal Register shall be available for use by all STRLs, if they wish to adopt them.

VII. Evaluation Plan

Authorizing legislation mandates evaluation of the Demonstration Project to assess the merits of Project outcomes and to evaluate the feasibility of applications to other Federal organizations. The overall evaluation consists of two components—external and internal evaluation. The external evaluation for the AF Laboratory Demonstration is part of a larger effort involving evaluation of demonstration projects in reinvention laboratories in three military services. External evaluation was originally overseen by the Office of Merit Systems Oversight and Effectiveness, OPM, and the Director, Defense Research and Engineering (DDR&E) and Civilian Personnel Policy (CPP), DoD. OPM's Personnel Resources and Development Center (PRDC) served as external evaluator for the first five years of the Project to ensure the integrity of the evaluation process, outcomes, and interpretation of results. After the five-year point decision to continue the Demonstration Project, AFRL opted out of OPM's external evaluation effort and continued its own internal evaluation. AFRL intends to continue the same level of evaluation with the addition of the expanded project coverage.

The main purpose of the evaluation is to determine the effectiveness of the personnel system changes as they are expanded to cover additional segments of the AFRL population and to ensure that there are no unintended adverse outcomes of the changes. To the extent possible, cause-and-effect relationships between the changes and personnel system effectiveness criteria will be established. The evaluation approach uses the intervention impact model shown in Table 3, which specifies each personnel system change as an intervention; the expected effects of each intervention; the corresponding measures of these effects; and the data sources for obtaining the measures.

BILLING CODE 5001-06-P

VIII. Demonstration Project Costs

The goal of this Demonstration Project is a system in which payroll costs and resource utilization can be controlled consistent with the organization's fiscal strategies. This Demonstration Project consists of a system of pay incentives and processes that are flexible and can operate in harmony with the operational and financial needs of the larger organization. The costs of the Project are borne by AFRL. Costs associated with the Demonstration Project include DCPDS and software automation, training, WGI buy-in, buy-up to minimum for band, and Project evaluation. The timing of the expenditures depends on the implementation schedule. Because automation requirements will be minimized as a result of existing software system similarities, costs are estimated to be below $100K.

IX. Required Waivers to Law and Regulation

The following waivers and adaptations of certain title 5, U.S.C. and title 5, CFR provisions are required only to the extent that these statutory and regulatory provisions limit or are inconsistent with the actions contemplated under this demonstration project. Nothing in this plan is intended to preclude the demonstration project from adopting or incorporating any law or regulation enacted, adopted, or amended after the effective date of this demonstration project.

A. Waivers to title 5, U.S.C.

Chapter 31, section 3111: Acceptance of Volunteer Service. (This section is waived to allow for a Voluntary Emeritus Corps.)

Chapter 33, section 3308: Competitive Service; Examinations; Educational Requirements Prohibited. (This section is waived with respect to the scholastic achievement appointment authority.)

Chapter 33, sections 3317(a) and 3318(a): Competitive Service; Related to certification and selection from registers. (These sections are waived to eliminate the “rule of three.”)

Chapter 33, section 3319: Alternative Ranking and Selection Procedures. (This section is waived to eliminate quality categories.)

Chapter 33, section 3321: Competitive Service; Probationary Period. (This section waived only to the extent necessary to replace “grade” with “broadband level.”)

Chapter 33, section 3341: Details; Within Executive or Military Departments. (This section is adapted to the extent necessary to waive the time limits for details.)

Chapter 35, section 3502: Order of Retention. (This section waived to the extent necessary to allow provisions of the RIF plan as described in this Federal Register notice.)

Chapter 43, sections 4301-4305: Related to performance appraisal. (These sections are waived to the extent necessary to allow provisions of the contribution-based compensation system as described in this Federal Register notice.)

Chapter 51, sections 5101-5102(a)(5), 5103, and sections 5104-5112: Related to classification standards and grading. (These sections are waived to the extent necessary to allow classification provisions described in this Federal Register notice.)

Chapter 53, sections 5301-5307: Related to pay comparability system and General Schedule pay rates. (This waiver applies to the extent necessary to allow: (1) Demonstration Project employees to be treated as GS employees and (2) basic rates of pay under the Demonstration Project to be treated as scheduled rates of basic pay.

Chapter 53, sections 5331-5336: These waivers apply to the extent necessary to allow: (1) Demonstration Project employees to be treated as GS employees; (2) to allow the provisions of this Federal Register notice pertaining to setting rates of pay; and (3) waive sections 5335 and 5336 in their entirety.

Chapter 53, sections 5361-5366: Grade and Pay Retention. (These sections waived to the extent necessary to: (1) Replace “grade” with “broadband;” (2) allow Demonstration project employees to be treated as GS employees; and (3) sections 5362-5366 are waived in their entirety to allow provisions of this Federal Register pertaining to grade and pay retention.)

Chapter 55, sections 5545 and 5547: Related to premium pay. (These sections waived to the extent necessary to allow Demonstration Project employees to be treated as GS employees.)

Chapter 57, sections 5753-5755: Related to recruitment, relocation, retention payments, and supervisory differential. (These sections waived to the extent necessary to allow: (1) Employees and positions under the Demonstration Project to be treated as employees and positions under the GS and (2) that management may offer a bonus to incentivize geographic mobility to a SCEP student.)

Chapter 75, sections 7501(1), 7511(a)(1)(A)(ii), (a)(1)(B), and (a)(1)(C)(ii): Related to removal, suspension, and reduction in grade or pay. (These sections are waived to the extent that they refer to one or two years of continuous service to allow up to a three-year probationary period for S&Es.)

Chapter 75, section 7512(3): Related to adverse action. (This section waived to the extent necessary to: (1) Replace “grade” with “broadband level;” and (2) exclude reductions in broadband level not accompanied by a reduction in pay.)

Chapter 75, section 7512(4): Related to adverse action. (This section is waived to the extent necessary to provide that adverse action provisions do not apply to conversions from GS special rates to Demonstration Project pay, as long as total pay is not reduced.)

B. Waivers to Title 5, CFR

Part 213, section 213.3202: Tenure Group. (Amended to allow excepted service employees to be in tenure group I.)

Part 300, sections 300.601-300.605: Time-in-Grade Restrictions. (Time-in-grade restrictions are eliminated in this demonstration project.)

Part 308, sections 308.101-308.103: Volunteer Service. (Amended to allow for a Voluntary Emeritus Corps.)

Part 315, sections 315.801(a); (b)(1); (c) and (e); and sections 315.802(a) and (b)(1): Related to probationary period. (Amended to allow for extended probationary or trial period of 3 years for all newly hired S&E employees.)

Part 315, section 315.901 and 315.907: Probation on Initial Appointment to a Supervisory or Managerial Position. (This section waived only to the extent necessary to replace “grade” with “broadband level.”)

Part 316, sections 316.301, 316.303, and 316.304: Term Employment. (These sections are waived to allow modified term appointments as described in this Federal Register notice.)

Part 332, sections 332.401 and 332.404: Order on Registers and Order of Selection from Certificates. (These sections are waived to the extent necessary to allow: (1) No rating and ranking when there are 15 or fewer qualified applicants and no preference eligibles; (2) the hiring and appointment authorities as described in this Federal Register notice; and (3) elimination of the “rule of three.”)

Part 335, section 335.103(c): Agency Promotion Programs. (This section is waived to the extent necessary to: (1) Allow non-competitive temporary job changes as described in this Federal Register notice and (2) expand discretionary exemptions to agency promotion programs.)

Part 337, section 337.101(a): Rating Applicants. (This section is waived when there are 15 or fewer qualified applicants and no preference eligibles.)

Part 340, subpart A, subpart B, and subpart C: Other than Full-Time Career Employment. (These subparts are waived to the extent necessary to allow for a Voluntary Emeritus Corps and to allow excepted service employees to be in tenure group I.)

Part 351, Reduction-in-Force. (This part is waived to the extent necessary to allow provisions of the RIF plan as described in this Federal Register notice. In accordance with this FRN, AFRL will define the competitive area, retention standing, and displacement limitations.) Specific waivers include: sections 351.402-351.404: Scope of Competition; sections 351.501-351.504: Retention Standing; sections 351.601-351.608: Release from Competitive Level; and section 351.701: Assignment Involving Displacement.

Part 430, subpart A and subpart B: Performance Management; Performance Appraisal. (These subparts are waived to the extent necessary to allow provisions of the contribution-based compensation system as described in this Federal Register notice.)

Part 432, sections 432.101-432.105: Regarding performance based reduction in grade and removal actions. (These sections are waived to the extent necessary to: (1) Replace “grade” with “broadband;” (2) exclude reductions in broadband level not accompanied by a reduction in pay; and (3) allow provisions of CCS and addressing inadequate contribution as described in this Federal Register notice.)

Part 511, subpart A, subpart B: Classification under the General Schedule. (These subparts are waived to the extent necessary to allow classification provisions outlined in this Federal Register notice.)

Part 511, sections 511.601-511.612: Classification Appeals. (These sections are waived to the extent necessary to: (1) Replace “grade” with “broadband;” (2) add to the list of issues that are neither appealable or reviewable, the assignment of series under the project plan to appropriate career paths; and (3) to allow informal appeals to be decided by the AFRL pay pool manager. Formal appeal rights are unchanged.)

Part 530, subpart C: Special Rate Schedules for Recruitment and Retention. (This subpart is waived in its entirety.)

Part 531, subpart B: Determining Rate of Pay; subpart D: Within-Grade Increases; subpart E: Quality Step Increases. (These subparts are waived in their entirety to allow for the pay setting provisions as described in this Federal Register notice.)

Part 531, subpart F: Locality Payments. (This subpart is waived to the extent necessary to allow: (1) Demonstration Project employees to be treated as GS employees; (2) replace “grade” with “broadband;” and (3) to allow basic rates of pay under the Demonstration Project to be treated as scheduled rates of basic pay.)

Part 536, subpart A, subpart B, and subpart C: Grade and Pay Retention. (These subparts are waived in their entirety.)

Part 550, section 550.703: Severance Pay. (This section is waived to the extent to allow AFRL to define reasonable offer.)

Part 550, section 550.902: Hazard Pay. (Definition of “employee,” is waived only to the extent necessary to allow Demonstration Project employees to be treated as GS employees.)

Part 575, sections 575.103(a), 575.203(a), 575.303(a), and subpart D: Recruitment and Relocation Bonuses; Retention Allowances; Supervisory Differentials. (These sections are adapted to the extent necessary to allow employees and positions under the Demonstration Project to be treated as employees and positions under the General Schedule. Subpart D is waived in its entirety; pay is based on employee contribution.)

Part 575, sections 575.201; 575.202; 575.205(a), (b); 575.206(a)(1); (b), (c); 575.207(a)(3); and 575.208(a)(1)(i), (a)(1)(iv), and (a)(3): Relocation Incentives. (These sections waived to the extent necessary to allow: (1) Relocation incentives to new SCEP students; (2) employees and positions under the Demonstration Project to be treated as employees and positions under the General Schedule; and (3) relocation incentives to SCEP students whose worksite is in a different geographic location than that of the college enrolled.)

Part 591, subpart B: Cost-of-Living Allowance and Post Differential—Nonforeign Areas. (This subpart is adapted to the extent necessary to allow employees and positions under the Demonstration Project to be treated as employees and positions under the General Schedule.)

Part 752, sections 752.101 and 752.301: Adverse Actions. (This section is waived to the extent that they refer to one or two years of continuous service to allow up to a three-year probationary period for S&Es.)

Part 752, section 752.401(a)(3): Reduction in Grade. (This section is waived to the extent necessary to replace “grade” with “broadband” and to exclude reductions in broadband level not accompanied by a reduction in pay.)

Part 752, section 752.401(a)(4): Reduction in Pay. (This section is waived to the extent necessary to provide that adverse action provisions do not apply to conversions from GS special rates to Demonstration Project pay, as long as total pay is not reduced.)

BILLING CODE 5001-06-P

BILLING CODE 5001-06-C

Appendix B: Descriptors Sorted by Career Path, Broadband Level, and Factor

Scientists and Engineers Career Path (DR):

Level I Descriptors

Problem Solving Factor: Applies knowledge of science, technology, or processes to assigned tasks. Efforts are within the technology area or own organization. Analyzes and resolves routine to moderately-difficult problems within assigned area, often under the guidance of senior personnel. Develops limited variations to established methods and/or techniques. Uses judgment in selecting, interpreting, and adapting known scientific principles. Considers existing approaches and researches novel alternatives. Efficiently provides solutions that resolve assigned problems with some oversight/assistance from senior personnel. Completed work is reviewed for soundness, appropriateness, and conformity. Capability is recognized within own organization.

Communication Factor: Prepares information to use within own organization and technical area. Exchanges information with other functional areas or external contacts. Documents routine information in a clear and timely manner. Effectively utilizes communications tools to contribute to reports, documents, presentations, etc. Presents routine information in a clear and timely manner. Actively listens and responds appropriately. Develops speaking skills for basic briefings and effectively adjusts to the audience with guidance. Provides reports, documents, and presentations to senior personnel for review. Makes necessary revisions per guidance from senior personnel.

Technology Management Factor: Interacts within technical area on routine issues to communicate information and coordinate actions within area of assigned responsibility. Conducts duties in support of technical goals within own organization. Participates in technology area planning within own organization. Contributes technical ideas to proposal preparation and new technology development. Efficiently performs tasks utilizing available resources, including one's own time, to successfully accomplish assigned work. Provides inputs to risk management and process improvements. Contributes within own organization to the development and transition of technology solutions. Seeks out and uses relevant outside technologies to support own technical and functional activities.

Teamwork and Leadership Factor: Performs work within a team that improves capability of a technology area or organization. Coordinates actions and gains understanding of other areas sufficiently to make appropriate recommendations. As team member, makes positive contributions in assigned areas to meet team goals. Shares relevant knowledge and information with others. Develops positive working relationships with peers and superiors alike. Maintains currency in area of expertise. Actively seeks guidance/opportunities to improve/expand skills. Receives close guidance from others. Performs duties in a professional, responsive, and cooperative manner in accordance with established policies and procedures.

Level II Descriptors

Problem Solving Factor: Develops or modifies new methods, approaches, or scientific knowledge to solve challenges. Efforts involve multiple technology areas or organizations. Applies knowledge of science/technology to analyze and resolve multifaceted issues/problems with minimal guidance. Develops comprehensive modifications to established methods and/or techniques. Uses judgment and originality in developing innovative approaches to define and resolve highly complex situations. Approaches to solving problems require initiative and resourcefulness in interpreting and applying scientific principles that are applicable but may be conflicting or not clearly understood. Consults appropriately to develop objectives, priorities, and deadlines. Plans and carries out work that is well aligned with organizational goals. Completed work is generally accepted upon review. Expertise is recognized internally and externally by academia, industry, or government peers.

Communication Factor: Provides information to peers, senior technical leaders, and/or managers within and beyond own organization to influence decisions or recommend solutions. Exchanges information with established internal/external networks. Documents complex information, concepts, and ideas in a clear, concise, well-organized, and timely manner. Authors reports, documents, and presentations pertaining to area(s) of expertise. Presents complex information, concepts, and ideas in a clear, concise, well-organized, and timely manner. Actively listens to others' questions, ideas, and concerns and considers diverse viewpoints. Demonstrates effective speaking skills for advanced briefings, tailoring presentations to facilitate understanding. Reviews own communication products prior to submittal to peers, senior technical leaders, managers, and/or external contacts, resulting in minimal revision. May assist with the communications of others.

Technology Management Factor: Collaborates with technical area stakeholders to develop strategies for effective execution within a particular technology area. Executes activities within and beyond own organization that ensure the technology mission. Recognizes opportunities and formulates plans within own organization. Generates key ideas and contributes technically to proposal preparation and marketing to establish new business opportunities. Identifies and advocates for resources necessary to support and contribute to mission requirements. Demonstrates knowledge of corporate processes by effective application of resources. Actively manages cost, schedule, and resource risks seeking timely remedies. Engages others in using resources more efficiently and suggests innovative ideas to optimize available resources. Implements the development and transition/transfer of technology solutions, within or beyond own organization, based upon awareness of customer requirements. Evaluates and incorporates appropriate outside technology to support research and development.

Teamwork and Leadership Factor: Performs work as a key team member or leads others to improve capability of a technology area or organization. Integrates efforts or works across disciplines. Provides consultation on complex issues. As lead or key team member, makes significant contributions to meet team goals in support of the organizational goals. Works collaboratively with others in a dynamic environment, demonstrating respect for other people and alternative viewpoints. Recognizes when others need assistance and provides support. Assists in the development and training of internal/external team members. Works to develop/improve self in order to more effectively accomplish team goals. May recommend selection of team members. Receives general guidance in terms of established policies, objectives, and decisions from others. Discusses novel concepts and significant departures from previous practices with supervisor or team leader.

Level III Descriptors

Problem Solving Factor: Performs duties across a broad range of activities that require substantial depth of analysis and expertise. Implements or recommends decisions which impact science or technology. Applies and expands knowledge of science/technology to resolve critical, multifaceted problems and/or develops new theories or methods. Adapts to tasks involving changes or competing requirements. Uses judgment and ingenuity in making decisions/developing technologies for areas with substantial uncertainty in methodology, interpretation, and/or evaluation. Approaches to solving problems require interpretation, deviation from traditional methods, or research of trends and patterns to develop new methods, scientific knowledge, or organizational principles. Actively engages organizational planning activities. Defines and leads work efforts that are focused on organizational priorities. Results of work are considered authoritative. Expertise is recognized at the national level across the Laboratory, service, DoD agencies, industry, and/or academia.

Communication Factor: Communicates complex technical, programmatic, and/or management information across multiple organizational levels to drive decisions by senior leaders. Collaborates with broad functional and technical areas. Leads documentation of diverse and highly complex information, concepts, and ideas in a highly responsive and effective manner. Authors and enables authoritative reports, documents, and presentations pertaining to multiple areas of expertise. Leads presentation of diverse and highly complex information, concepts, and ideas in a highly responsive and effective manner. Seeks opinions and ideas from others and carefully considers and incorporates diverse viewpoints. Demonstrates expert speaking skills and adaptability for critical briefings. Produces required forms of communication with minimal guidance from others. Reviews communications of others for appropriate and accurate content.

Technology Management Factor: Leads technology partners in highly complex technical areas to develop strategies for research and development programs. Leads development and execution at a broad level in the Laboratory to advance the technology mission. Leads/contributes significantly to program definition and/or planning. Pursues near-term business opportunities by exploiting internal and/or external resources. Identifies and develops mission relevant solutions while leveraging collaborations across the Laboratory. Monitors evolution of cost, schedule, and resource risk. Anticipates changes in resource requirements and develops and advocates solutions in advance. Leads others in using resources more efficiently and implements innovative ideas to stretch limited resources. Leads development and transition/transfer activities based upon extensive customer interactions and appropriate partnerships. Develops technology solutions by exploiting external technology to enhance research and development.

Teamwork and Leadership Factor: Leads critical aspects of team or technology area with focused accountability for quality and effectiveness. Integrates efforts across disciplines. Sought out for consultation on complex issues that affect internal/external organizations and/or relationships. Effectively seeks out and capitalizes on opportunities for collaboration to achieve significant results that support organizational goals. Is sought out for consultation and leadership roles. Seeks out opportunities to share knowledge with others. Volunteers to lead or serve on cross-functional/integrated teams. Leads and supports the development and training of subordinates and/or internal/external team members. Actively seeks out mentoring opportunities. Proactively develops/improves self in order to more effectively accomplish organizational goals. Recommends selection and/or selects team members. Receives only broad policy/guidance. Provides guidance/direction to others. May participate in position and performance management.

Level IV Descriptors

Problem Solving Factor: Defines, leads, and manages an overall technology area which includes multidisciplinary science and technology (S&T) and/or non-S&T aspects. Makes critical decisions which significantly impact science or technology. Applies considerable judgment to resolve critical, multifaceted problems spanning multiple disciplines. Expertly accomplishes tasks or resolves issues involving significant uncertainties, changes, or competing requirements. Using broadly stated organizational goals fosters a culture which rewards ingenuity and generates/implements innovative ideas for developing new technologies. Develops innovative approaches which significantly expand the scientific knowledge base and/or the overall effectiveness of the organization. Sets objectives and plans, designs, and directs work to meet evolving organizational goals. Agency provides only broadly defined missions and functions. Leadership is recognized at the national/international level across various laboratories, services, DoD, industry and/or academia.

Communication Factor: Communicates with a wide range of peers/organizations across multiple levels inside and outside the Laboratory to influence major technical, programmatic, and/or management activities. Builds collaborative relationships across broad functional and technical areas and engages with leaders at the national and/or international level. Promotes a culture of excellence in synthesizing and documenting diverse and highly complex information, concepts, and ideas. Authors and directs authoritative reports, documents, and presentations integrating multiple disciplines. Develops strategies to improve presentations of diverse and highly complex information, concepts, and ideas. Fosters an atmosphere of respect for others at all levels and promotes expression of alternative viewpoints. Displays mastery of speaking skills and delivers compelling, authoritative briefings. Establishes guidance and oversight requirements for communication in their organizational or technical area. Responsible and accountable for overall development of reports, documents, and presentations of self and others within area of responsibility.

Technology Management Factor: Integrates wide-ranging activities at a national/international level, involving multiple technical areas, to develop strategic technology solutions. Directs program/process formulation and implementation to achieve the mission goals at the Laboratory/multi-agency level. Leads requirements generation, strategic planning, and prioritization. Creates business opportunities based upon market awareness and exploitation of internal and/or external resources. Identifies, proposes, and develops diverse and timely mission relevant solutions while leveraging national/international collaborations. Manages and defends the resources needed to achieve organizational goals and expertly guides the implementation of these resources in a dynamic environment. Leads, promotes, and enables process improvements to maximize resource utilization. Leads world class research and development programs based upon anticipating customer requirements and leveraging national/international activities. Develops innovative solutions that exploit emerging technology and fosters an environment of technology exploitation.

Teamwork and Leadership Factor: Leads/manages all aspects of subordinate/team efforts with complete accountability for mission and program success. Utilizes situational awareness to promote competitive positioning of the organization. Has broad and substantial impact on organizational decisions affecting internal/external organizations and/or relationships. Cultivates and sustains a professional environment of cooperation, cohesion, and teamwork. Formulates short- and long-term teaming/collaboration strategies across organizations/disciplines. Establishes team charters. Builds coalitions to establish integrated approaches that meet overall organizational mission requirements. Mentors and develops future organizational leaders and personnel through evaluations/feedback. Fosters a culture that encourages and rewards mentoring and development. Proactively develops/improves self in order to more effectively accomplish agency goals. Identifies and addresses skill deficiencies and selects team members. Works within the framework of agency policies, mission objectives, and time and funding limitations with minimal oversight. Establishes policy and/or provides guidance/direction to others. Responsible for position and performance management.

Business Management and Professional Career Path (DO):

Level I Descriptors

Problem Solving Factor: Applies knowledge of business management or a professional field to perform duties supporting and/or improving the efficiency and productivity of the organization. Analyzes and resolves difficult but routine problems within assigned area of responsibility, sometimes under the guidance of a senior specialist. Includes minor adaptation to established methods and techniques. Plans and carries out work based on established guidelines and supervisor's stated priorities and deadlines. Completed work is evaluated for soundness, appropriateness, and conformity to policy and requirements. Uses judgment in selecting, interpreting, and adapting guidelines that are readily available.

Communication Factor: Factual information and material is normally presented to individuals within immediate office or within own organization, but may involve external contacts. Communicates routine information in a clear and timely manner. Develops formal written communication often with supervisory review and revision. Actively listens and appropriately responds to questions and concerns from others. Uses tone that respects others' ideas, comments, and questions. With guidance, effectively adjusts communications to the audience's level of understanding. Has speaking skills required to deliver basic briefings.

Business Management Factor: Interacts with customers on routine issues to communicate information and coordinate actions within area of assigned responsibility. Conducts duties in support of business goals of the organization. Provides timely, flexible, and responsive products and/or services to customers under guidance of senior specialist or supervisor. Contributes ideas for improvement of established services based on knowledge of a variety of business management or professional programs and systems and an understanding of customer needs. Demonstrates knowledge of available resources and the process for acquiring the resources needed to accomplish assigned work. Makes effective use of available resources including one's own time.

Teamwork and Leadership Factor: Makes positive contributions to all aspects of the overall team's responsibilities. Pursues opportunities for training and professional growth. Actively participates in team training activities. Performs work that affects the accuracy, reliability, or acceptability of broader projects and programs. Coordinates joint actions and gains understanding of other areas sufficient to make appropriate recommendations. Works flexibly with others to accomplish team goals. Treats others fairly and professionally. Shares relevant knowledge and information with others. May participate as a member of cross-functional teams. May select or recommend selection of staff or team members.

Level II Descriptors

Problem Solving Factor: Develops new methods, criteria, policies, or precedents for business management or a professional field. Modifies or adapts established methods and approaches to complex issues that affect a wide range of organizational activities. May administer one or more complex programs within a functional area. Applies substantial knowledge of business management or a professional field to analyze and resolve highly complex issues and problems. Includes refinement of methods or development of new ones. Consults with supervisor to develop deadlines, priorities, and objectives. Plans and carries out work, effectively resolving most conflicts that arise. Keeps supervisor informed of potentially controversial issues. Completed work is reviewed primarily for meeting requirements and producing expected results. Uses initiative and resourcefulness in interpreting and applying policies, precedents, and guidelines that are applicable but may be conflicting or stated only in general terms. Uses considerable judgment and originality in developing innovative approaches to define and resolve highly complex situations.

Communication Factor: Communicates important concepts to influence decisions or recommend solutions with specialists and management officials in own organization. Occasionally communicates with individuals at higher levels and in other organizations. Communicates moderately complex information, concepts, and ideas in a clear, concise, well-organized, and timely manner. Written communication typically requires minimal revision. Actively listens to others' questions, ideas, and concerns. Uses respectful tone that considers diverse viewpoints and appropriately responds to questions or requests. Effectively adjusts communications to facilitate understanding. Tailors presentations and briefings to meet an audience's needs and level of understanding.

Business Management Factor: Works with customers to define/anticipate problems and develop strategies for effective resolution within a particular program area. Supports execution of activities that advance the business-related goals of the organization. Develops innovative or useful suggestions for designing and adapting customer-focused products and/or services. Displays flexibility in responding to changing customer needs. Contributes key ideas and/or strategies to develop, implement, and promote new/improved programs or services applicable to business management or a professional field. Identifies and advocates for resources necessary to support and contribute to mission requirements. Maximizes use of available resources.

Teamwork and Leadership Factor: Contributes as lead or key member of the team performing the substantive analytical or professional duties in support of the organizational mission. Effectively carries out integrated advisory and program work. Leads/mentors/provides oversight to specialists at same or lower level. Regularly consulted by management officials on complex issues due to depth and breadth of expertise. Works collaboratively and flexibly with others to accomplish team goals. Treats others fairly and professionally. Shares relevant knowledge and information with others. Recognizes when others need assistance and provides support. May participate as a member of cross-functional/integrated teams. Selects or recommends selection of staff or team members. Supports development and training of subordinates. Participates in mentoring and position/performance management.

Level III Descriptors

Problem Solving Factor: Performs duties across a broad range of activities that require substantial depth of analysis and organizational problem solving skills. Implements or recommends decisions which significantly impact agency policies/programs. Resolves critical problems or develops new theories for work products or services which affect the work of other experts, the development of major aspects of business management programs or missions, or impacts a large number of people. Assignments involve continual program changes or conflicting requirements. Supervisor outlines general objectives. Independently plans and carries out the work. Complex issues are resolved without reference to supervisor except for matters of a policy nature. Results are considered technically authoritative and are normally accepted without significant change. Uses judgment and ingenuity in making decisions in major areas of uncertainty in methodology, interpretation and/or evaluation. Guidelines require interpretation, deviation from traditional methods, or research of trends and patterns to develop new methods, criteria, or propose new policies.

Communication Factor: Influences consensus among management officials within AFRL, AF, and in other agencies and organizations to accept ideas and implement recommendations designed to improve effectiveness of major programs and policies. Communicates complex information, concepts, and ideas in an accurate, clear, concise, well-organized, and timely manner. Written communication typically accepted without revision. Seeks opinions and ideas from others as appropriate. Actively listens to others' questions, ideas, and concerns. Uses tone that respects and carefully considers diverse viewpoints, responding appropriately. Clearly communicates complex information, concepts, and ideas through briefings and presentations to a wide range of audiences.

Business Management Factor: Works jointly with customers to identify highly complex, sensitive, or controversial problems and develop strategies for effective resolution. Contributes to refinement of the business-related goals of the organization. Establishes successful working relationships with customers to address and resolve highly complex and/or controversial issues. Anticipates customer needs in order to avoid potential problems resulting in improved customer satisfaction. Develops effective plans and strategies for highly complex programs or services involving broad business management or a professional field. Successfully carries out and maintains such programs/services at a high level of customer awareness and satisfaction. Anticipates changes in workload requirements and advocates for resources in advance of when they are needed. Actively assists others in using resources more efficiently and suggests innovative ideas to stretch limited resources.

Teamwork and Leadership Factor: Effectively seeks out and capitalizes on opportunities for the work unit to achieve significant results that support organizational goals. Is sought out for consultation and leadership roles. Guides the critical aspects of programmatic and business management efforts of individuals and/or teams with focus on accountability, quality, and effectiveness. Has impact on business recommendations that affect both internal and external relationships. Leads and provides oversight to effectively manage integrated advisory and program services. Regularly consulted by management officials on highly complex issues. Seeks out opportunities to share knowledge with others. Volunteers to lead or serve on cross-functional/integrated teams. Selects or recommends selection of staff, team members, and/or subordinate supervisors. Initiates development and training of subordinates. Participates in mentoring, motivation, coaching, instruction, and position/performance management.

Level IV Descriptors

Problem Solving Factor: Defines, leads, and manages an overall business management or professional program area which includes a full range of complex functional areas. Makes critical decisions which significantly change, interpret, or develop important agency policies/programs. Applies considerable judgment and ingenuity to interpret existing guidelines and develop policies and procedures for broadly based projects/programs. Independently plans, designs, and carries out programs, projects, studies, etc., such that overall program objectives are met. Supervisor provides only broadly defined missions and functions. Results of work are considered technically authoritative and are almost always accepted without change. Guidelines are broadly stated and non-specific. Generates/implements innovative ideas for increasing overall effectiveness of the organization.

Communication Factor: Interacts with high-ranking officials to include AF level and other agencies and departments to influence major program policies and/or defend controversial decisions. May also communicate with leaders at the local, State, and/or national levels for similar purposes. Tailors style to communicate critical information effectively to diverse audiences at different levels. Accurately communicates complex information, concepts, and ideas in a clear, concise, well-organized, and timely manner. Written communication is accepted without revision. Receptive to alternative viewpoints. Clearly communicates complex information and ideas to a range of audiences. Shows respect for others and responds appropriately to people at all levels. Delivers compelling policy level briefings.

Business Management Factor: Interacts at senior management levels to negotiate and resolve conflicts concerning activity-wide policies and programs. Resolutions are communicated across the organization/agency. Contributes to the definition and improvement of processes that affect the business goals of the organization. Fosters successful working relationships with high-level officials both inside and outside the organization that help achieve overall mission goals. Develops innovative and useful approaches for improving or expanding products and/or services, resulting in highly valued services that improve overall customer satisfaction. Generates strategic plans and objectives to develop, implement, and promote broadly-based programs and services to meet organizational needs. Ensures overall effectiveness and customer-oriented focus of managed programs, processes, and services. Identifies, acquires, defends, and manages the resources needed to achieve organizational goals.

Teamwork and Leadership Factor: Formulates short- and long-term strategies across subordinate units to achieve significant results in support of the organization's goals and long-term vision. Leads and manages all aspects of subordinate/team efforts with complete accountability for mission and program success. Utilizes situational awareness to promote competitive positioning of the organization. Builds coalitions to establish integrated approaches to meet overall organizational mission requirements. Sets and maintains a tone of cooperation, cohesion, and teamwork. Champions respect and value for others. Selects or recommends selection of staff, team members, and subordinate supervisors. Initiates development and training of subordinates. Directs or recommends mentoring and position/performance management. Develops future team leaders and supervisors.

Technician Career Path (DX):

Level I Descriptors

Problem Solving Factor: Applies basic knowledge to perform well-defined work activities with guidance. Performs specific procedures which are typically a segment of a project of broader scope. Work products affect the accuracy, reliability, or acceptability of further procedures, processes, or services. Performs duties that involve related and established steps, processes, or methods. Operates and adjusts varied equipment and instrumentation to perform standardized tests or operations involved in testing, data analysis, and presentation. Executes routine assignments without explicit instructions if standard work methods can be used. Resolves recurring routine problems with little supervision. Uses judgment in locating and selecting the most appropriate procedures, making minor deviations to adapt the guidelines to specific cases.

Communication Factor: Acquires or exchanges information with individuals on same team or within own organization for routine and recurring issues. May involve limited external contacts. Communicates routine information in a clear and timely manner. Written communication may require some revision. Actively listens and appropriately responds to questions and concerns from others. Uses tone that respects others' ideas, comments, and questions. With guidance, effectively adjusts communications to facilitate understanding.

Business Management Factor: Interacts with customers to communicate information and coordinate routine actions within area of assigned responsibility. Conducts duties in support of business goals of the organization. Provides timely, flexible, and responsive products and/or services to customers under guidance of senior technician or supervisor. Contributes ideas for improvement of products and services to project lead/supervisor based on an understanding of customer needs. Efficiently utilizes available resources, including one's own time, to successfully accomplish assigned work.

Teamwork and Leadership Factor: Makes positive contributions to specific aspects of the team's responsibilities. Actively takes initiative to expand knowledge and assume more responsibilities. Pursues opportunities for training and professional growth. Actively participates in team training activities. Provides work product that is a complete project of relatively conventional and limited scope or a portion of a larger project. Work requires a limited degree of coordination and integration of diverse phases carried out by others. Personal interactions foster cooperation and teamwork. Works effectively with others to accomplish tasks. Treats others respectfully and professionally. Provides information and assistance to others as needed. Attempts to handle minor work-related disagreements in a positive manner.

Level II Descriptors

Problem Solving Factor: Plans and conducts work which is a complete project of relatively limited scope or a portion of a large and more diverse project. Work affects the operation of systems, equipment, testing operations, research conclusions, or similar activities. Applies practical knowledge of different but established technical methods, principles, and practices within a narrow area to design, plan, and carry out projects. Assignments require study, analysis, and consideration and selection of several possible courses of action. Supervisor outlines overall requirements, providing general instructions regarding objectives, time limitations, and priorities. Plans and carries out successive steps and handles problems in accordance with accepted practices or instructions. Completed work is evaluated for technical soundness, appropriateness, and conformity. Applies knowledge and experience to a broad range of assignments. Seeks novel solutions where appropriate. Adapts previous plans/techniques to fit new situations.

Communication Factor: Communicates with co-workers and management officials in own organization in order to plan and coordinate work, communicate important technical concepts and requirements, or recommend solutions. Also, communicates with various individuals at higher levels and in other organizations. Communicates information in a clear, concise, well-organized, and timely manner. Written communication typically requires minimal revision. Actively listens to others' questions, ideas, and concerns. Uses respectful tone that considers diverse viewpoints. Tailors communications to ensure an effective level of understanding. Clearly responds to questions or requests, following up when appropriate.

Business Management Factor: Works with customers to define/anticipate problems and develop strategies for effective resolution within technical areas. Supports execution of activities that advance the business-related goals of the organization. Develops innovative or useful suggestions for designing and adapting customer-focused products and/or services. Displays flexibility in responding to changing customer needs. Contributes key ideas and/or strategies to develop, implement, and apply new/improved methods and procedures applicable to technical areas. Anticipates, identifies, and advocates for resources necessary to support and contribute to mission requirements. Maximizes use of available resources.

Teamwork and Leadership Factor: Makes positive contributions to multiple aspects of the team's responsibilities. Shares knowledge and experience with team members. Provides a work product that is a complete conventional project, or a portion of a larger, more diverse project. Projects require coordination of several independent parts, each requiring independent analysis and solution. Works collaboratively and flexibly with others to accomplish team goals. Treats others respectfully and professionally. Shares relevant knowledge and information with others. Effectively contributes as a participating member on other teams. Supports development and training of subordinates and/or co-workers. Participates in mentoring and position/performance management.

Level III Descriptors

Problem Solving Factor: Establishes criteria, formulates projects, assesses program effectiveness, and investigates a variety of unusual conditions or problems in areas which affect a wide range of major activities. Identifies areas for investigation or improvement. Work affects the design of systems, equipment, testing operations, research conclusions, or similar activities. Applies considerable knowledge of a wide range of technical methods, principles, and practices to design, plan, and carry out complex projects. Assignments are frequently complicated by many operations which equipment or systems must perform, and many variables that must be considered. Precedents are sometimes absent or obscure. Handles conflicting issues. Supervisor outlines general requirements and objectives. Analyzes problems and develops approaches/work plans. Requires little to no technical advice or guidance. Technical decisions and recommendations are normally accepted by higher authority. Applies extensive knowledge to unusual or highly difficult assignments. Reviews, analyzes, and integrates work performed by others along with adaptations from changes in technology as they relate to the possible impact on projects, systems, or processes

Communication Factor: Communicates with employees and management officials both within own organization and in organizations outside the agency to resolve problems, accept ideas, and implement recommendations designed to improve effectiveness of operating systems, programs, equipment, or services. Communicates complex information in a clear, concise, well-organized, and timely manner. Written communication is typically accepted without revision. Seeks opinions and ideas from others as appropriate. Actively listens to others' questions, ideas, and concerns. Uses respectful tone that considers diverse viewpoints, responding appropriately. Communicates complex information, concepts, and ideas through briefings or presentations to audiences in a manner that facilitates understanding. Clearly responds to questions or requests with follow up when appropriate.

Business Management Factor: Works with customers to identify highly complex or controversial problems and develop strategies for effective resolution. Contributes to refinement of the business-related goals of the organization. Establishes successful working relationships with customers to address and resolve highly complex and/or controversial issues. Anticipates customer needs in order to avoid potential problems resulting in improved customer satisfaction. Develops effective plans and strategies for highly complex products or services involving a broad technical area. Successfully carries out and maintains services at a high level of customer awareness and satisfaction. Anticipates changes in workload requirements and advocates for resources in advance of when they are needed. Actively assists others in using resources more efficiently and suggests innovative ideas to stretch limited resources.

Teamwork and Leadership Factor: Is sought out for consultation and serves as a mentor to other team members. Seeks out opportunities to share experience and lessons learned with other team members, both internal and external to own organization. Manages highly difficult assignments in functional areas. Acts as a spokesperson authorizing important modifications which conform to broad policy. Coordinates assignments with subject matter experts in other areas. Reviews, analyzes, and integrates work performed by other groups or individuals outside the organization. Builds effective partnerships across units. Volunteers and actively serves in leadership roles on integrated teams. Regularly consulted by others on significant issues. Deals with challenging conflicts in a manner that motivates and encourages cooperation. Develops options to resolve disagreements that may require resolution at a higher level. Provides recommendations for creation of teams. Develops and identifies new training needs for the professional growth of team members. Provides mentoring and position/performance management.

Level IV Descriptors

Problem Solving Factor: Provides expert advisory services and leadership for broad and complex programs, systems, and processes that advance the state of the art. Plans, organizes, and/or directs extensive development efforts associated with the latest advancements in technology. Projects are multi-disciplinary and are greatly affected by advances in technology. Projects are also characterized by highly complex problems for which precedents are lacking. Uses judgment and ingenuity to convert objectives into programs or policies. Adjusts broad activities to align with changing program needs. Supervisor outlines only broad policy and operational objectives/requirements. Technical supervision is limited to reviewing broad hypotheses and overall approach. Interpretations are generally accepted as technically authoritative. Creates new techniques, establishing criteria and/or developing new information. Approach is not easily determined and novel approaches or considerable modification of existing techniques is required. May contribute to or publish technical papers on modification of existing theories or technology.

Communication Factor: Interacts with individuals or groups in various agencies and departments to influence and/or defend controversial decisions. Tailors style to communicate critical information effectively to diverse audiences at different levels. Communicates complex information in a clear, concise, well-organized, and timely manner. Written communication is accepted without revision. Prepares and delivers briefings to communicate complex information and ideas to a range of audiences in a manner that facilitates understanding. Receptive to alternative or dissenting viewpoints. Shows respect for others and responds appropriately to people at all levels.

Business Management Factor: Interacts at senior management levels to negotiate and resolve conflicts affecting a wide-range of activities. Contributes to the definition and improvement of processes that affect the business goals of the organization. Fosters successful working relationships with high-level officials both inside and outside the organization that help achieve overall mission goals. Develops innovative and useful approaches for evaluating and improving operations, equipment, and/or activities resulting in highly valued services that improve overall customer satisfaction. Stays appraised of current technologies and methods to develop techniques for new or modified work methods, approaches, or procedure for substantive functions and services to meet organizational and customer needs. Ensures overall effectiveness and customer-oriented focus of managed programs, processes, and services. Plans and allocates resources to accomplish multiple customer needs simultaneously across the organization. Develops and implements innovative approaches to attain goals and minimize resource expenditures.

Teamwork and Leadership Factor: Recognized as a prominent contributor to key technical fields as a leader of a productive team directly contributing to the organization's mission. Considered a leader in the conception and formulation of innovative concepts and ideas. Serves as an expert in own field and is regularly sought out for consultation and/or takes leadership on important committees dealing with significant technical issues. Responsible for ensuring team composition is sufficient to meet program objectives. Contributes to achieving organizational goals by building flexible and effective partnerships. Successfully resolves sensitive conflicts. Actively works to ensure the continuous transfer of knowledge and skills throughout the work unit by serving as a technical resource and initiating or overseeing the development of formal knowledge sharing systems. Selects or recommends selection of staff and/or team members. Develops and identifies new training needs for the professional growth of subordinates. Directs and provides mentoring and position/performance management. May formally supervise at team-level.

Mission Support Career Path (DU)

Level I Descriptors

Problem Solving Factor: Performs clerical/assistant/support work involving the application of a body of standardized rules, procedures, or operations to resolve a variety of standard, recurring requirements. Work affects the quality and timeliness of products or services within the immediate office. Applies standard rules, procedures, or operations to accomplish repetitive tasks and resolve routine matters. Carries out recurring and routine work following supervisor's direction regarding work to be done, priorities, and specific procedures/guidelines to be followed. Completed work is reviewed for accuracy, timeliness, and adherence to instructions. Uses judgment in selecting and applying guidelines which are readily available.

Communication Factor: Communicates with individuals primarily in own organization in order to exchange information and present findings. Communicates routine information in a clear and timely manner. Written communication may require some revision. Clearly communicates status of assigned tasks. Actively listens and appropriately responds to questions and concerns from others. Uses tone that respects others' ideas, comments, and questions.

Business Management Factor: Interacts with customers on routine issues to communicate information and clarify instructions for tasking within area of assigned responsibility. Conducts administrative duties in support of business goals of the organization. Provides timely, flexible, and responsive products and/or services to customers under guidance of senior team member or supervisor. Suggests ideas for improvement of products and services based on an understanding of customer needs. Efficiently utilizes available resources to successfully accomplish assigned work. Appropriately prioritizes work; manages own time.

Teamwork and Leadership Factor: Contributes to specific aspects of the team's responsibilities. Pursues opportunities for training and professional growth. Actively participates in team training activities. Provides work product or service of limited scope that requires a minimal degree of coordination and integration of work carried out by others. Personal attitude/conduct fosters cooperation and teamwork needed to accomplish tasks. Treats others fairly and professionally. Provides information and assistance to others as requested/needed. Attempts to handle minor work-related disagreements in a positive manner.

Level II Descriptors

Problem Solving Factor: Applies well-developed knowledge and skills to effectively perform a full range of moderately complex clerical/assistant/support work. Work affects the quality and timeliness of products or services within the organization. Applies standard rules, procedures, or operations to accomplish a variety of tasks and resolve moderately complex matters. Supervisor defines objectives, priorities, and deadlines. Independently plans and carries out steps required to complete assignments. Resolves recurring problems/deviations without assistance. Completed work is reviewed for accuracy, timeliness, and compliance with established methods/procedures/guidelines. Takes initiative to identify, locate, and appropriately apply guidelines and procedures.

Communication Factor: Communicates with co-workers and management officials in own organization in order to plan and coordinate work, communicate important concepts and requirements, or recommend solutions. Also, communicates with counterparts at various levels both inside and outside the organization. Communicates information in a clear, concise, well-organized, and timely manner. Written communication typically requires minimal revision. Actively listens and appropriately responds to questions and concerns from others. Shows respect for others' ideas, comments, and questions. With guidance, effectively adjusts communications to facilitate understanding.

Business Management Factor: Effectively interacts with customers to understand their needs, answer questions, and provide routine information about products and/or services. Supports execution of activities that advance the business-related goals of the organization. Takes initiative to develop innovative ideas for adapting customer-focused products and/or services. Displays flexibility in responding to changing customer needs. Develops effective plans and strategies for improving the effectiveness of important products or services for an identified mission support area. Successfully provides services with a high level of customer satisfaction. Identifies and advocates for resources necessary to support and contribute to mission requirements.

Teamwork and Leadership Factor: Contributes as a member of the team performing substantive clerical/assistant/support duties in support of the organizational mission. Assists in the development and training of individuals or team members. Participates in mentoring and assists with team management. Effectively carries out important mission support work. Leads/mentors/provides oversight to employees at same or lower level. Regularly assists specialists/managers on support issues due to depth of knowledge and breadth of expertise. Works flexibly with others to accomplish team goals. Treats others fairly and professionally. Seeks opportunities to share relevant knowledge and information with others. May participate as a member on other teams.

Level III Descriptors

Problem Solving Factor: Performs clerical/assistant/support work involving application of an extensive body of rules, procedures, and operations to resolve a wide variety of complex organizational support activities. Work may occasionally have influence beyond immediate organization. Work has a direct impact on the effectiveness and efficiency of the work products and services of specialists within the organization. Applies considerable knowledge of the rules, procedures, and operations to accomplish a variety of tasks within the assigned area of responsibility. Applies guidelines and techniques to resolve complex problems involving related, procedural processes. Supervisor defines overall objectives, priorities, and deadlines. Works independently, resolving difficult problems that may arise. Completed work is reviewed for accuracy and compliance with established methods/procedures. Selects, interprets, and applies guidelines which are available but not completely applicable or have gaps in specificity. Uses considerable judgment by applying modified or new guidelines to resolve unique problems. May assist in the development of new guidelines for administrative procedures.

Communication Factor: Routine contacts are with co-workers, managers in organizations for which services are performed, and staff at higher echelons to coordinate work, communicate important concepts and requirements, or recommend solutions. May also interact with individuals in other agencies, departments, or public office. Communicates moderately complex information, concepts, and ideas in a clear, concise, well-organized, and timely manner. Written communication typically accepted without revision. Actively listens to others' questions, ideas, and concerns. Uses respectful tone that considers diverse viewpoints and clearly responds to questions or requests, following up to ensure understanding. Tailors communications to ensure an effective level of understanding.

Business Management Factor: Serves as a central point of contact to provide authoritative explanations of requirements, regulations, and procedures, and to effectively resolve problems or disagreements affecting assigned areas. Contributes to refinement of the business-related goals of the organization. Establishes successful working relationships with customers to address and resolve complex and/or controversial mission support issues. Anticipates customer needs in order to avoid potential problems resulting in improved customer satisfaction. Develops and implements effective plans and strategies for improving important products or services involving a broad mission support area. Successfully provides services with a high level of customer awareness and satisfaction. Anticipates changes in workload requirements and advocates for resources in advance of when they are needed. Actively assists others in using resources more efficiently and suggests innovative ideas to stretch limited resources.

Teamwork and Leadership Factor: Effectively seeks out and capitalizes on opportunities to assist specialists/managers in achieving significant results that support organizational goals. Is sought out for consultation. Accomplishes and/or guides the critical aspects of mission support efforts with focus on accountability, quality, and effectiveness. Assists in development of guidelines and processes that affect mission performance. Leads and/or provides oversight for integrated mission support services. Regularly consulted by others on significant issues. Seeks out opportunities to share knowledge with others. Volunteers to lead or serve on cross-functional/integrated teams. May recommend selection of staff or team members. Initiates development and training of subordinates. Participates in mentoring and position/performance management. Develops others through mentoring, coaching, and instruction.

Level IV Descriptors

Problem Solving Factor: Applies expert-level knowledge and skills to effectively perform a wide-range of highly complex organizational support activities. Work often has influence beyond immediate organization. Work has a direct and significant impact on the effectiveness and efficiency of the work products and services of specialists and management officials within the organization. Typically leads other mission support personnel in defining and carrying out overall organizational support objectives. Develops guidelines, techniques, procedures, and/or operations for the most complex and difficult problems within the subject matter area for the organization. Operates with a great deal of independence. Plans and carries out assignments such that overall program objectives are met. Recommendations are generally accepted as technically authoritative. Work is evaluated only for conformance with broad objectives and is almost always accepted without change. Applies considerable judgment and ingenuity to interpret existing policies/procedures and develop new guidelines and techniques that have a direct impact on specific programs/services within the organization.

Communication Factor: Routine contacts are with co-workers, managers in organizations for which services are performed, and staff at higher echelons to coordinate work, communicate important concepts and requirements, or recommend solutions. May also interact with high-ranking individuals in other agencies, departments, or public office. Tailors style to communicate critical information effectively to diverse audiences at different levels. Communicates complex information, concepts, and ideas in a clear, concise, well-organized, and timely manner. Written communication is accepted without revision. Seeks opinions and ideas from others as appropriate. Actively listens to others' questions, ideas, and concerns. Uses respectful tone that considers diverse viewpoints, responding appropriately. Communicates complex information, concepts, and ideas through briefings or presentations to a range of audiences in a manner that facilitates understanding.

Business Management Factor: Interacts at senior management levels to negotiate and resolve conflicts affecting a wide-range of mission support activities. Assists in the definition and improvement of processes that affect the business goals of the organization. Fosters successful working relationships with high-level officials both inside and outside the organization that help achieve overall mission goals. Establishes innovative and useful approaches for evaluating and improving mission support operations, processes, and/or activities resulting in highly valued services that improve overall customer satisfaction. Takes initiative to develop and implement techniques for new or modified methods, approaches, or procedures for substantive mission support functions and services to meet organizational and customer needs. Ensures overall effectiveness and customer-oriented focus of managed programs, processes, and services. Identifies, acquires, defends, and manages the resources needed to accomplish duties directly supporting organizational goals. Balances competing resource requirements to ensure alignment with mission objectives.

Teamwork and Leadership Factor: Recognized as a significant contributor within a key mission support area by serving as a leader of a productive team or a leader in the conception and formulation of relevant concepts and ideas. Serves as an expert in own field and is regularly sought out for consultation and/or takes leadership on important committees dealing with significant mission support issues. Contributes to achieving organizational goals by building flexible and effective partnerships. Manages the most sensitive conflicts in a positive manner. Actively works to foster collaboration by serving as a leadership resource. Selects or recommends selection of staff, team members, and subordinate supervisors. Formal supervisors in this broadband conduct performance evaluation/rating of subordinates. Initiates development and training of subordinates. Directs or recommends mentoring and position/performance management. Develops others through motivation, mentoring, coaching, and instruction.

BILLING CODE 5001-06-P

[FR Doc. 2010-21355 Filed 8-27-10; 8:45 am]

BILLING CODE 5001-06-C